DEPARTMENT OF COMMERCE

National Oceanic and Atmospheric Administration

50 CFR Part 679

[Docket No. 250312-0037]

RTID 0648-XE336

Fisheries of the Exclusive Economic Zone Off Alaska; Gulf of Alaska; Final 2025 and 2026 Harvest Specifications for Groundfish

AGENCY: National Marine Fisheries Service (NMFS), National Oceanic and Atmospheric Administration (NOAA), Commerce.

ACTION: Final rule; harvest specifications and closures.

SUMMARY: NMFS announces final 2025 and 2026 harvest specifications, apportionments, and Pacific halibut prohibited species catch limits for the groundfish fishery of the Gulf of Alaska (GOA). This action is necessary to establish harvest limits for groundfish during the remainder of the 2025 and the start of the 2026 fishing years and to accomplish the goals and objectives of the Fishery Management Plan for Groundfish of the Gulf of Alaska (FMP). The intended effect of this action is to conserve and manage the groundfish resources in the GOA in accordance with the Magnuson-Stevens Fishery Conservation and Management Act (Magnuson-Stevens Act).

DATES: Harvest specifications and closures are effective from 1200 hours, Alaska local time (A.l.t.), March 18, 2025, through 1200 hours, A.l.t., March 17, 2026.

ADDRESSES: Electronic copies of the Final Alaska Groundfish Harvest Specifications Environmental Impact Statement (Final EIS), Record of Decision (ROD), and the annual Supplementary Information Reports (SIRs) to the EIS prepared for this action are available at: https://www.regulations.gov. The 2024 Stock Assessment and Fishery Evaluation (SAFE) report for the groundfish resources of the GOA, dated November 2024, and SAFE reports for previous years are available from the North Pacific Fishery Management Council (Council) at 1007 West Third Avenue, Suite 400, Anchorage, AK 99501, phone 907-271-2809, or from the NMFS website at: https://www.fisheries.noaa.gov/alaska/population-assessments/north-pacific-groundfish-stock-assessments-and-fishery-evaluation.

FOR FURTHER INFORMATION CONTACT: Abby Jahn, 907-586-7228.

SUPPLEMENTARY INFORMATION: NMFS manages the GOA groundfish fisheries in the exclusive economic zone of the GOA under the FMP. The North Pacific Fishery Management Council (Council) prepared and recommended the FMP under the authority of the Magnuson-Stevens Act (16 U.S.C. 1801 et seq.). Regulations governing U.S. fisheries and implementing the FMP appear at 50 CFR parts 600, 679, and 680.

The FMP and its implementing regulations require that NMFS, after consultation with the Council, specify the total allowable catch (TAC) for each target species, the sum of which must be within the optimum yield (OY) range of 116,000 to 800,000 metric tons (mt) (§§ 679.20(a)(1)(i)(B) and 679.20(a)(2)). Section 679.20(c)(1) further requires that NMFS publish and solicit public comment on proposed annual TACs and apportionments thereof, Pacific halibut prohibited species catch (PSC) limits, and seasonal allowances of pollock and Pacific cod. Upon consideration of those public comments, NMFS must publish a notification of final harvest specifications for up to 2 fishing years as annual TACs and apportionments, Pacific halibut PSC limits, and seasonal allowances of pollock and Pacific cod, per § 679.20(c)(3)(ii). The final harvest specifications set forth in tables 1 through 27 of this rule reflect the outcome of this process, as required at § 679.20(c).

The proposed 2025 and 2026 harvest specifications for groundfish of the GOA and Pacific halibut PSC limits were published in the Federal Register on November 29, 2024 (89 FR 94680). Comments were invited and accepted through December 30, 2024. NMFS received one letter raising one distinct comment during the public comment period for the proposed GOA groundfish harvest specifications. No changes were made in this rule in response to the comment. NMFS's response to the comment is included in the Comments and Responses section of this rule.

In December 2024, NMFS consulted with the Council regarding the 2025 and 2026 harvest specifications. After considering public comment at public meetings and comments received for the proposed rule, as well as current biological, ecosystem, socioeconomic, and harvest data, NMFS is implementing the final 2025 and 2026 harvest specifications, as recommended by the Council but with reductions to account for a new directed octopus fishery established by the State of Alaska (“State”) in December 2024. This results in a 16 mt reduction from the Council recommended TACs. For 2025, the sum of the TAC amounts is 514,619 mt. For 2026, the sum of the TAC amounts is 464,741 mt.

Other Actions Affecting the 2025 and 2026 Harvest Specifications

In December 2024, the Alaska Board of Fisheries considered several proposals for management of fishing in State waters that could have affected the GOA groundfish harvest specifications. The BOF ultimately adopted one proposal, Proposal 43, for implementation starting in the 2025 fishing year. Proposal 43 establishes a directed octopus fishery in State waters in Prince William Sound (PWS). NMFS is setting the TAC to account for this State fishery by subtracting the maximum guideline harvest range (GHR) of 16 mt (35,000 pounds (lbs) rounded) from the acceptable biological catch (ABC) recommended by the SSC. This is to ensure that the sum of octopus removals from Federal and State waters do not exceed the GOA-wide ABC recommendation.

ABC and TAC Specifications

In December 2024, the Council's Scientific and Statistical Committee (SSC), its Advisory Panel (AP), and the Council reviewed the most recent biological, ecosystem, socioeconomic, and harvest information about the condition of the GOA groundfish stocks. The Council's GOA Groundfish Plan Team (Plan Team) compiled and presented this information in the 2024 SAFE report for the GOA groundfish fisheries, dated November 2024 (see ADDRESSES). The SAFE report contains a review of the latest scientific analyses and estimates of each species' biomass and past, present, and possible future condition of the stocks and groundfish fisheries off Alaska. The SAFE report also contains an economic summary informed by the Economic SAFE and ecosystem information summarized from the Ecosystem Status Report (ESR).

The ESRs compile and summarize information about the status of the Alaska marine ecosystems for the Plan Team, SSC, AP, Council, NMFS, and the public, and they are updated annually. The ESRs include ecosystem report cards, ecosystem assessments, and ecosystem status indicators (e.g., climate indices, sea surface temperature), which together provide context for ecosystem-based fisheries management in Alaska. The ESRs inform stock assessments and are integrated into the annual harvest recommendations through inclusion in stock assessments, including stock-specific risk tables. The ESRs provide context for the SSC's recommendations for overfishing limits (OFLs) and ABCs, as well as for the Council's TAC recommendations. The SAFE reports and the ESRs are presented to the Plan Team and at the October and December Council meetings before the SSC, AP, and Council make groundfish harvest recommendations and aid NMFS in implementing these annual groundfish harvest specifications. An ESR is prepared for the GOA ecosystem, the eastern Bering Sea ecosystem, and Aleutian Islands ecosystem.

The SAFE report also includes information on the economic condition of the groundfish fisheries off Alaska through the Economic Status Report. The SAFE report provides information to the Council and NMFS for recommending and setting, respectively, annual harvest levels for each stock, and for documenting significant trends or changes in the resource, marine ecosystems, and fisheries over time. From these data and analyses, the Plan Team recommends, and the SSC sets, an OFL and ABC for each species and species group. The 2024 SAFE report was made available for public review during the public comment period for the proposed harvest specifications.

In previous years, the greatest changes from the proposed to the final harvest specifications were based on recent NMFS stock surveys, which provide updated estimates of stock biomass and spatial distribution, and changes to the models used for producing stock assessments. At the November 2024 Plan Team meeting, NMFS scientists presented updated and new survey results, changes to stock assessment models, and accompanying stock assessment estimates for groundfish species and species groups that are included in the 2024 SAFE report per the stock assessment schedule found in the 2024 SAFE report introduction. The SSC reviewed this information at the December 2024 Council meeting. Changes from the proposed to the final 2025 and 2026 harvest specifications are discussed below.

The final 2025 and 2026 OFLs and ABCs are based on the 2024 SAFE report. The AP and the Council also review the data and analyses, including the 2024 SAFE report, as well as the Plan Team and SSC recommendations for OFLs and ABCs to develop their TAC recommendations. The FMP specifies the formulas, or tiers, for computing OFLs and ABCs. The formulas applicable to a particular stock or stock complex are determined by the level of reliable information available to fisheries scientists. This information is categorized into a successive series of six tiers to define OFL and ABC amounts, with Tier 1 representing the highest level of information quality available and Tier 6 representing the lowest level of information quality available. The Plan Team used the FMP tier structure to calculate OFL and ABC amounts for each groundfish species. The SSC adopted the final 2025 and 2026 OFLs and ABCs recommended by the Plan Team, with the exception of the ABC for sablefish. The SSC recommended a 5 percent reduction from max ABC for 2025 and 2026. After reviewing current stock status and ecosystem factors, the SSC determined a more conservative buffer between OFL and ABC for sablefish was warranted than the Plan Team's recommendation.

The Council adopted the SSC's OFLs and ABCs and the AP's TAC recommendations. The final TAC recommendations are based on the ABCs and are adjusted for other biological and socioeconomic considerations, including maintaining the sum of all TACs within the required OY range of 116,000 to 800,000 mt. The Council recommended 2025 and 2026 TACs that are equal to sub-area apportionments of ABCs for all stocks and stock complexes except for the following species: (1) pollock in the combined Western/Central/West Yakutat (W/C/WYK) area; (2) Pacific cod; (3) Western GOA shallow-water flatfish; (4) Western GOA arrowtooth flounder; (5) Western GOA flathead sole; (6) SEO district other rockfish; and (7) Atka mackerel. For sub-area apportionments of ABCs and TACs, refer to tables 1 and 2.

The final 2025 and 2026 harvest specifications approved by the Secretary of Commerce are unchanged from those recommended by the SSC and Council and are consistent with the preferred harvest strategy outlined in the FMP, as well as the Final EIS and ROD, because they were set through the harvest specifications process. None of the TACs exceed the recommended ABCs, and the sum of all TACs is within the OY range (see ADDRESSES). NMFS has reviewed the recommendations of the SSC and Council for OFLs, ABCs, and TACs for target species and species groups in the GOA as well as any other relevant information. Based on that review, NMFS is specifying the OFLs, ABCs, and TACs set forth in tables 1 through 27 of this final rule as consistent with the Magnuson-Stevens Act, the FMP, and other applicable law.

NMFS finds that the Council's recommended OFLs, ABCs, and TACs are consistent with the biological condition of the groundfish stocks as described in the final 2024 SAFE report, while also accounting for ecosystem and socioeconomic information presented in the 2024 SAFE report (which includes the GOA ESR). NMFS also finds that the Council's recommendations for TACs are consistent with the biological condition of groundfish stocks as adjusted for other biological and socioeconomic considerations, including maintaining the sum of all TACs within the OY range. The TACs are set equal to sub-area apportionments of ABCs for all stocks and stock complexes except for pollock in the combined W/C/WYK area, Pacific cod, Western GOA shallow-water flatfish, Western GOA arrowtooth flounder, Western GOA flathead sole, SEO District other rockfish, Atka mackerel, and octopus. The combined W/C/WYK pollock TAC and the GOA Pacific cod TACs are set to account for the State's guideline harvest levels (GHLs) so that the ABCs for pollock and Pacific cod are not exceeded. NMFS set the octopus TAC to account for the State's GHR so that the ABC for octopus is not exceeded. The Western GOA shallow-water flatfish, Western GOA arrowtooth flounder, and Western GOA flathead sole TACs are set to allow for increased harvest opportunities for these target species while conserving the halibut PSC limit for use in other, more fully utilized fisheries. The other rockfish TAC in the SEO District is set to reduce the amount of discards of the species in that complex. The Atka mackerel TAC is set to accommodate incidental catch amounts (ICA) in other fisheries. NMFS reviewed the Council's recommended TACs and apportionments, and NMFS approves these harvest specifications under § 679.20(c)(3)(ii). The apportionment of TAC amounts among gear types and sectors, processing sectors, and seasons is discussed below.

Tables 1 and 2 list the final 2025 and 2026 OFLs, ABCs, TACs, and area apportionments of groundfish in the GOA. The 2025 harvest specifications set in this final action supersede the 2025 harvest specifications previously set in the final 2024 and 2025 harvest specifications (89 FR 15484, March 4, 2024). Pursuant to this final action, the 2025 harvest specifications are effective from 1,200 hours, A.l.t., March 18, 2025, through 2,400 hours, A.l.t., December 31, 2025, and the 2026 harvest specifications are effective from 0001 hours, A.l.t., January 1, 2026, through 1,200 hours, A.l.t., March 17, 2026.

Specification and Apportionment of TAC Amounts

NMFS's apportionment of groundfish species is based on the distribution of biomass among the regulatory areas over which NMFS manages the species. Additional regulations that govern the apportionment of pollock, Pacific cod, and sablefish are described below.

The TAC for the pollock stock in the combined W/C/WYK areas is set to account for the GHL established by the State for the Prince William Sound (PWS) pollock fishery. The Plan Team, SSC, AP, and Council have recommended that the sum of all State waters and Federal waters pollock removals from the GOA not exceed ABC recommendations. State fisheries managers set the PWS pollock GHL at 2.5 percent of the annual W/C/WYK pollock ABC. For 2025, this yields a PWS pollock GHL of 4,526 mt. For 2026, the PWS pollock GHL is 3,326 mt. After the GHL reductions, the 2025 and 2026 pollock ABCs for the combined W/C/WYK areas are then apportioned between four statistical areas (i.e., Areas 610, 620, 630, and 640), as described below and detailed in tables 1 and 2. The ABCs and TACs for the four statistical areas, plus the State PWS GHL, do not exceed the combined W/C/WYK ABC.

Apportionments of pollock to the W/C/WYK areas are considered to be apportionments of the TAC. This more accurately reflects that such apportionments address management, rather than biological or conservation, concerns. In addition, apportionments of the TAC in this manner allow NMFS to balance any transfer of TAC among Areas 610, 620, and 630 pursuant to § 679.20(a)(5)(iv)(B) to ensure that the combined W/C/WYK ABC, ACL, and TAC are not exceeded.

NMFS establishes pollock TACs in the Western (Area 610) and Central (Areas 620 and 630) Regulatory Areas and the West Yakutat (Area 640) and the SEO (Area 650) Districts of the GOA (see tables 1 and 2). NMFS also establishes seasonal apportionments of the annual pollock TACs in the Western and Central Regulatory Areas of the GOA among Statistical Areas 610, 620, and 630. Additional detail on area apportionments and seasonal allowances is provided in the Apportionments of Pollock TAC Among Seasons and Regulatory Areas, and Allocations for Processing by Inshore and Offshore Components section of this rule. Tables 3 and 4 list these amounts.

The 2025 and 2026 Pacific cod TACs are set to account for the State's GHLs for Pacific cod in State waters in the Western and Central Regulatory Areas, as well as in PWS (in the Eastern Regulatory Area). The Plan Team, SSC, AP, and Council recommended that the sum of all State waters and Federal waters Pacific cod removals from the GOA not exceed ABC recommendations. The Council recommended setting the 2025 and 2026 Pacific cod TACs in the Western, Central, and Eastern Regulatory Areas to account for State GHLs. After taking into account the GHL fisheries, the 2025 Pacific cod TACs are less than the ABCs by the following amounts: (1) Western GOA, 2,613 mt; (2) Central GOA, 5,127 mt; and (3) Eastern GOA, 731 mt. The 2026 Pacific cod TACs are less than the ABCs by the following amounts: (1) Western GOA, 2,455 mt; (2) Central GOA, 4,816 mt; and (3) Eastern GOA, 687 mt. These amounts reflect the State's 2025 and 2026 GHLs in these areas, which are 30 percent of the Western GOA ABC and 25 percent of the Eastern and Central GOA ABCs.

The Western and Central GOA Pacific cod TACs are allocated among various gear and operational sectors. NMFS also establishes seasonal apportionments of the annual Pacific cod TACs in the Western and Central Regulatory Areas. The Pacific cod sector and seasonal apportionments are discussed in detail in the Annual and Seasonal Apportionments of Pacific Cod TAC section and in tables 5 and 6 of this rule.

The Council's recommendation for sablefish area apportionments takes into account the prohibition on the use of trawl gear in the SEO District of the Eastern Regulatory Area (§ 679.7(b)(1)) and makes available 5 percent of the combined Eastern Regulatory Area TACs to vessels using trawl gear for use as incidental catch in other trawl groundfish fisheries in the WYK District (§ 679.20(a)(4)(i)). Tables 7 and 8 list the final 2025 and 2026 allocations of sablefish TAC to fixed gear and trawl gear in the GOA.

Changes From the Proposed 2025 and 2026 Harvest Specifications in the GOA

In October 2024, the Council's recommendations for the proposed 2025 and 2026 harvest specifications (89 FR 94680, November 29, 2024) were based largely on information contained in the final 2023 SAFE report for the GOA groundfish fisheries, dated November 2023. The final 2023 SAFE report for the GOA is available from the Council (see ADDRESSES). The Council proposed that the final OFLs, ABCs, and TACs established for the 2025 groundfish fisheries (89 FR 15484, March 4, 2024) be used for the proposed 2025 and 2026 harvest specifications pending completion and review of the 2024 SAFE report at the Council's December 2024 meeting.

The final 2025 TACs are higher than the proposed 2025 TACs published in the proposed 2025 and 2026 harvest specifications for pollock, Pacific cod, sablefish, deep-water flatfish, rex sole, arrowtooth flounder, flathead sole, Pacific ocean perch, northern rockfish, rougheye and blackspotted rockfish, and demersal shelf rockfish. The final 2025 TACs are lower than the proposed 2025 TACs for shallow-water flatfish, dusky rockfish, thornyhead rockfish, other rockfish, and octopus. The final 2026 TACs are higher than the proposed 2026 GOA TACs for Pacific cod, shallow-water flatfish, arrowtooth flounder, flathead sole, northern rockfish, rougheye and blackspotted rockfish, and demersal shelf rockfish. The final 2026 TACs are lower than the proposed 2026 TACs for pollock, sablefish, deep-water flatfish, rex sole, Pacific ocean perch, dusky rockfish, thornyhead rockfish, other rockfish, and octopus. For the remaining target species the Council recommended the final 2025 and 2026 TACs that are the same as the proposed 2025 and 2026 TACs.

Additional information explaining the changes between the proposed and final ABCs is included in the final 2024 SAFE report, which was not completed and available when the Council made its proposed ABC and TAC recommendations in October 2024. At that time, the most recent stock assessment information was contained in the final 2023 SAFE report. For the final specifications, the final 2024 SAFE report contains the best and most recent scientific information on the condition of the groundfish stocks, harvest information, and ecosystem and socioeconomic information, as previously discussed in this preamble, and is available for review (see ADDRESSES). The Council considered the 2024 SAFE report in December 2024 when it made recommendations to NMFS for the final 2025 and 2026 harvest specifications. In the GOA, the total final 2025 TAC amount is 514,619 mt, an increase of 6.77 percent from the total proposed 2025 TAC amount of 482,000 mt. The total final 2026 TAC amount is 464,741 mt, a decrease of 3.58 percent from the total proposed 2026 TAC amount of 482,000 mt. Table A summarizes the difference between the proposed and final TACs.

Annual stock assessments incorporate a variety of new or revised inputs, such as survey data or catch information, as well as changes to the statistical models used to estimate a species' biomass and population trend. Changes to biomass and ABC estimates are primarily based on fishery catch updates to species' assessment models.

The changes for individual species or species groups from the proposed 2025 TACs to the final 2025 TACs are within a range of plus 135 percent and minus 18 percent, and the changes from the proposed 2026 TACs to the final 2026 TACs are within the same range. Differences in TACs are based on changes in the estimates of overall biomass in the stock assessment for 2025 and 2026, as compared to the estimates previously made for 2024 and 2025. For 2025, the species or species group with TAC increases greater than 10 percent are pollock, Pacific cod, rougheye and blackspotted rockfish, and demersal shelf rockfish. For 2026, the species or species group with TAC increases greater than ten percent are rougheye and blackspotted rockfish and demersal shelf rockfish. Based on changes in the estimates of biomass, the species group with TAC percentage decreases greater than 10 percent are pollock (2026), dusky rockfish (2025 and 2026), thornyhead rockfish (2025 and 2026), and other rockfish (2025 and 2026). For all other species and species groups, changes from the proposed 2025 and 2026 TACs to the final 2025 and 2026 TACs are less than a 10 percent net change. These TAC changes correspond to associated changes in the OFLs and ABCs as recommended by the SSC.

Detailed information providing the basis for the changes described above is contained in the final 2024 SAFE report. The final TACs are consistent with the biological condition of groundfish stocks as described in the 2024 SAFE report. The final ABCs reflect harvest amounts that are less than the specified OFLs. The final TACs are adjusted for other biological and socioeconomic considerations and do not exceed ABCs. These TACs are specified in compliance with the harvest strategy from the FMP and Final EIS and as described in the proposed and final rules for the 2025 and 2026 harvest specifications.

Table A—Comparison of Proposed and Final 2025 and 2026 GOA Total Allowable Catch Limits
[Values are rounded to the nearest metric ton and percentage]
Species | 2025 and 2026 proposed TAC | 2025 Final TAC | 2025 Final minus 2025 proposed TAC | Percentage difference | 2026 Final TAC | 2026 Final minus 2026 proposed TAC | Percentage difference
Pollock | 163,494 | 186,245 | 22,751 | 14 | 139,498 | −23,996 | −15
Pacific cod | 20,757 | 23,670 | 2,913 | 14 | 22,235 | 1,478 | 7
Sablefish | 22,695 | 22,836 | 141 | 1 | 22,550 | −145 | −1
Shallow-water flatfish | 46,091 | 46,054 | −37 | 0 | 46,258 | 167 | 0
Deep-water flatfish | 6,953 | 6,958 | 5 | 0 | 6,832 | −121 | −2
Rex sole | 21,303 | 21,387 | 84 | 0 | 21,173 | −130 | −1
Arrowtooth flounder | 93,936 | 100,454 | 6,518 | 7 | 100,769 | 6,833 | 7
Flathead sole | 36,387 | 36,534 | 147 | 0 | 36,873 | 486 | 1
Pacific ocean perch | 38,354 | 38,962 | 608 | 2 | 37,509 | −845 | −2
Northern rockfish | 4,646 | 5,076 | 430 | 9 | 4,895 | 249 | 5
Shortraker rockfish | 647 | 647 | 0 | 0 | 647 | 0 | 0
Dusky rockfish | 7,225 | 6,338 | −887 | −12 | 6,021 | −1,204 | −17
Rougheye/blackspotted rockfish | 1,041 | 1,180 | 139 | 13 | 1,203 | 162 | 16
Demersal shelf rockfish | 283 | 665 | 382 | 135 | 665 | 382 | 135
Thornyhead rockfish | 1,628 | 1,338 | −290 | −18 | 1,338 | −290 | −18
Other rockfish | 1,653 | 1,384 | −269 | −16 | 1,384 | −269 | −16
Atka mackerel | 3,000 | 3,000 | 0 | 0 | 3,000 | 0 | 0
Big skate | 2,835 | 2,835 | 0 | 0 | 2,835 | 0 | 0
Longnose skate | 2,536 | 2,536 | 0 | 0 | 2,536 | 0 | 0
Other skates | 665 | 665 | 0 | 0 | 665 | 0 | 0
Sharks | 4,891 | 4,891 | 0 | 0 | 4,891 | 0 | 0
Octopuses | 980 | 964 | −16 | −2 | 964 | −16 | −2
Total | 482,000 | 514,619 | 32,619 | 6.8 | 464,741 | −17,259 | −3.58

The final 2025 and 2026 TAC amounts for the GOA are within the OY range established for the GOA and do not exceed the ABC for any species or species group. The ABC does not exceed the OFL for any species or species group. Tables 1 and 2 list the final OFL, ABC, and TAC amounts for GOA groundfish for 2025 and 2026, respectively.

Table 1—Final 2025 OFLs, ABCs, and TACs of Groundfish for the Western/Central/West Yakutat, Western, Central, Eastern Regulatory Areas, the West Yakutat and Southeast Outside Districts of the Eastern Regulatory Area, and Gulfwide Districts of the Gulf of Alaska
[Values are rounded to the nearest metric ton]
Species | Area ¹ | OFL | ABC | TAC
Pollock ² | Shumagin (610) | n/a | 37,344 | 37,344
| Chirikof (620) | n/a | 82,265 | 82,265
| Kodiak (630) | n/a | 51,605 | 51,605
| WYK (640) | n/a | 5,282 | 5,282
| W/C/WYK (subtotal) ² | 210,111 | 181,022 | 176,496
| SEO (650) | 12,998 | 9,749 | 9,749
| Total | 223,109 | 190,771 | 186,245
Pacific cod ³ | W | n/a | 8,710 | 6,097
| C | n/a | 20,506 | 15,379
| E | n/a | 2,925 | 2,194
| Total | 38,688 | 32,141 | 23,670
Sablefish ⁴ | W | n/a | 4,746 | 4,746
| C | n/a | 9,744 | 9,744
| WYK | n/a | 2,686 | 2,686
| SEO | n/a | 5,660 | 5,660
| Subtotal TAC | n/a | n/a | 22,836
| Total | 58,532 | 47,605 | n/a
Shallow-water flatfish ⁵ | W | n/a | 23,755 | 13,250
| C | n/a | 28,279 | 28,279
| WYK | n/a | 2,828 | 2,828
| SEO | n/a | 1,697 | 1,697
| Total | 69,277 | 56,559 | 46,054
Deep-water flatfish ⁶ | W | n/a | 234 | 234
| C | n/a | 2,616 | 2,616
| WYK | n/a | 1,828 | 1,828
| SEO | n/a | 2,280 | 2,280
| Total | 8,263 | 6,958 | 6,958
Rex sole | W | n/a | 3,382 | 3,382
| C | n/a | 13,698 | 13,698
| WYK | n/a | 1,436 | 1,436
| SEO | n/a | 2,871 | 2,871
| Total | 26,002 | 21,387 | 21,387
Arrowtooth flounder | W | n/a | 33,593 | 14,500
| C | n/a | 68,261 | 68,261
| WYK | n/a | 6,695 | 6,695
| SEO | n/a | 10,998 | 10,998
| Total | 142,832 | 119,547 | 100,454
Flathead sole | W | n/a | 13,592 | 8,650
| C | n/a | 21,817 | 21,817
| WYK | n/a | 3,970 | 3,970
| SEO | n/a | 2,097 | 2,097
| Total | 50,587 | 41,476 | 36,534
Pacific ocean perch ⁷ | W | n/a | 1,753 | 1,753
| C | n/a | 28,209 | 28,209
| WYK | n/a | 2,070 | 2,070
| SEO | n/a | 6,930 | 6,930
| Total | 46,562 | 38,962 | 38,962
Northern rockfish ⁸ | W | n/a | 1,396 | 1,396
| C | n/a | 3,680 | 3,680
| E | n/a |  |
| Total | 6,064 | 5,076 | 5,076
Shortraker rockfish ⁹ | W | n/a | 34 | 34
| C | n/a | 189 | 189
| E | n/a | 424 | 424
| Total | 863 | 647 | 647
Dusky rockfish ¹⁰ | W | n/a | 209 | 209
| C | n/a | 5,818 | 5,818
| WYK | n/a | 215 | 215
| SEO | n/a | 96 | 96
| Total | 7,705 | 6,338 | 6,338
Rougheye and Blackspotted rockfish ¹¹ | W | n/a | 224 | 224
| C | n/a | 359 | 359
| E | n/a | 597 | 597
| Total | 1,576 | 1,180 | 1,180
Demersal shelf rockfish ¹² | W/C/WYK | 361 | 271 | 271
| SEO | 524 | 394 | 394
Thornyhead rockfish ¹³ | W | n/a | 206 | 206
| C | n/a | 590 | 590
| E | n/a | 542 | 542
| Total | 1,784 | 1,338 | 1,338
Other rockfish ¹⁴ | W/C/WYK | n/a | 1,084 | 1,084
| SEO | n/a | 2,421 | 300
| Total | 4,618 | 3,505 | 1,384
Atka mackerel | GW | 6,200 | 4,700 | 3,000
Big skate ¹⁵ | W | n/a | 745 | 745
| C | n/a | 1,749 | 1,749
| E | n/a | 341 | 341
| Total | 3,780 | 2,835 | 2,835
Longnose skate ¹⁶ | W | n/a | 104 | 104
| C | n/a | 1,894 | 1,894
| E | n/a | 538 | 538
| Total | 3,380 | 2,536 | 2,536
Other skates ¹⁷ | GW | 887 | 665 | 665
Sharks | GW | 6,521 | 4,891 | 4,891
Octopus | GW | 1,307 | 980 | 964
Total |  | 709,422 | 590,762 | 514,619
¹ Regulatory areas and districts are defined at § 679.2. (W = Western Gulf of Alaska; C = Central Gulf of Alaska; E = Eastern Gulf of Alaska; WYK = West Yakutat District; SEO = Southeast Outside District; GW = Gulf-wide). The 2025 harvest specifications are effective from 1200 hours, A.l.t., March 18, 2025, through 2400 hours, A.l.t., December 31, 2025.
² The total for the W/C/WYK Regulatory Areas pollock ABC is 181,022 mt. After deducting 2.5 percent (4,526 mt) of that ABC for the State's pollock GHL fishery, the remaining pollock ABC of 176,496 mt (for the W/C/WYK Regulatory Areas) is apportioned among four statistical areas (Areas 610, 620, 630, and 640). The TACs in Areas 610, 620, and 630 are further divided by season, as detailed in table 3 (Final 2025 Distribution of Pollock in the Western and Central Regulatory Areas of the Gulf of Alaska, Area Apportionments, and Seasonal Allowances of Annual TAC). In the West Yakutat (Area 640) and Southeast Outside (Area 650) Districts of the Eastern Regulatory Area, pollock TACs are not divided into seasonal allowances.
³ The annual Pacific cod TAC is apportioned, after seasonal apportionment to the jig sector, as follows: (1) 63.84 percent to the A season and 36.16 percent to the B season and (2) 64.16 percent to the A season and 35.84 percent to the B season in the Western and Central Regulatory Areas of the GOA, respectively. Pacific cod TAC in the Eastern Regulatory Area of the GOA is allocated 90 percent to vessels harvesting Pacific cod for processing by the inshore component and 10 percent to vessels harvesting Pacific cod for processing by the offshore component. Table 5 lists the final 2025 Pacific cod seasonal apportionments and sector allocations.
⁴ The sablefish OFL and ABC are set Alaska-wide (58,532 mt and 47,605 mt, respectively), and the Alaska-wide totals are included in the total OFL and ABC in table 1. Additionally, sablefish TAC is allocated to trawl and fixed gear in 2025 and trawl gear in 2026, and the sablefish TAC allocated to fixed gear in 2026 will be specified in the 2026 and 2027 harvest specifications. Table 7 lists the final 2025 allocations of sablefish TACs.
⁵ “Shallow-water flatfish” means flatfish not including “deep-water flatfish,” flathead sole, rex sole, or arrowtooth flounder.
⁶ “Deep-water flatfish” means Dover sole, Greenland turbot, Kamchatka flounder, and deep sea sole.
⁷ “Pacific ocean perch” means Sebastes alutus.
⁸ “Northern rockfish” means Sebastes polyspinis. For management purposes, the 1 mt apportionment of ABC to the WYK District of the Eastern Gulf of Alaska has been included in the other rockfish species group.
⁹ “Shortraker rockfish” means Sebastes borealis.
¹⁰ “Dusky rockfish” means Sebastes variabilis.
¹¹ “Rougheye and blackspotted rockfish” mean Sebastes aleutianus (rougheye) and S. melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastolobus species.
¹⁴ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, “other rockfish” also includes northern rockfish, S. polyspinis.
¹⁵ “Big skate” means Beringraja binoculata.
¹⁶ “Longnose skate” means Raja rhina.
¹⁷ “Other skates” mean Bathyraja.

Table 2—Final 2026 OFLs, ABCs, and TACs of Groundfish for the Western/Central/West Yakutat, Western, Central, Eastern Regulatory Areas, the West Yakutat and Southeast Outside Districts of the Eastern Regulatory Area, and Gulfwide Districts of the Gulf of Alaska
[Values are rounded to the nearest metric ton]
Species | Area ¹ | OFL | ABC | TAC
Pollock ² | Shumagin (610) | n/a | 27,453 | 27,453
| Chirikof (620) | n/a | 60,477 | 60,477
| Kodiak (630) | n/a | 37,936 | 37,936
| WYK (640) | n/a | 3,883 | 3,883
| W/C/WYK (subtotal) ² | 153,971 | 133,075 | 129,749
| SEO (650) | 12,998 | 9,749 | 9,749
| Total | 166,969 | 142,824 | 139,498
Pacific cod ³ | W | n/a | 8,182 | 5,727
| C | n/a | 19,263 | 14,447
| E | n/a | 2,748 | 2,061
| Total | 36,459 | 30,193 | 22,235
Sablefish ⁴ | W | n/a | 4,687 | 4,687
| C | n/a | 9,622 | 9,622
| WYK | n/a | 2,652 | 2,652
| SEO | n/a | 5,589 | 5,589
| Subtotal TAC | n/a | n/a | 22,550
| Total | 57,797 | 47,008 | n/a
Shallow-water flatfish ⁵ | W | n/a | 23,902 | 13,250
| C | n/a | 28,455 | 28,455
| WYK | n/a | 2,846 | 2,846
| SEO | n/a | 1,707 | 1,707
| Total | 69,610 | 56,910 | 46,258
Deep-water flatfish ⁶ | W | n/a | 231 | 231
| C | n/a | 2,568 | 2,568
| WYK | n/a | 1,795 | 1,795
| SEO | n/a | 2,238 | 2,238
| Total | 8,114 | 6,832 | 6,832
Rex sole | W | n/a | 3,353 | 3,353
| C | n/a | 13,582 | 13,582
| WYK | n/a | 1,413 | 1,413
| SEO | n/a | 2,825 | 2,825
| Total | 25,743 | 21,173 | 21,173
Arrowtooth flounder | W | n/a | 33,716 | 14,500
| C | n/a | 68,511 | 68,511
| WYK | n/a | 6,719 | 6,719
| SEO | n/a | 11,039 | 11,039
| Total | 143,347 | 119,985 | 100,769
Flathead sole | W | n/a | 13,757 | 8,650
| C | n/a | 22,083 | 22,083
| WYK | n/a | 4,018 | 4,018
| SEO | n/a | 2,122 | 2,122
| Total | 51,176 | 41,980 | 36,873
Pacific ocean perch ⁷ | W | n/a | 1,688 | 1,688
| C | n/a | 27,156 | 27,156
| WYK | n/a | 1,993 | 1,993
| SEO | n/a | 6,672 | 6,672
| Total | 44,826 | 37,509 | 37,509
Northern rockfish ⁸ | W | n/a | 1,346 | 1,346
| C | n/a | 3,549 | 3,549
| E | n/a |  |
| Total | 5,848 | 4,895 | 4,895
Shortraker rockfish ⁹ | W | n/a | 34 | 34
| C | n/a | 189 | 189
| E | n/a | 424 | 424
| Total | 863 | 647 | 647
Dusky rockfish ¹⁰ | W | n/a | 199 | 199
| C | n/a | 5,527 | 5,527
| WYK | n/a | 204 | 204
| SEO | n/a | 91 | 91
| Total | 7,319 | 6,021 | 6,021
Rougheye and Blackspotted rockfish ¹¹ | W | n/a | 229 | 229
| C | n/a | 366 | 366
| E | n/a | 608 | 608
| Total | 1,631 | 1,203 | 1,203
Demersal shelf rockfish ¹² | W/C/WYK | 361 | 271 | 271
| SEO | 524 | 394 | 394
Thornyhead rockfish ¹³ | W | n/a | 206 | 206
| C | n/a | 590 | 590
| E | n/a | 542 | 542
| Total | 1,784 | 1,338 | 1,338
Other rockfish ¹⁴ | W/C/WYK | n/a | 1,084 | 1,084
| SEO | n/a | 2,421 | 300
| Total | 4,618 | 3,505 | 1,384
Atka mackerel | GW | 6,200 | 4,700 | 3,000
Big skate ¹⁵ | W | n/a | 745 | 745
| C | n/a | 1,749 | 1,749
| E | n/a | 341 | 341
| Total | 3,780 | 2,835 | 2,835
Longnose skate ¹⁶ | W | n/a | 104 | 104
| C | n/a | 1,894 | 1,894
| E | n/a | 538 | 538
| Total | 3,380 | 2,536 | 2,536
Other skates ¹⁷ | GW | 887 | 665 | 665
Sharks | GW | 6,521 | 4,891 | 4,891
Octopus | GW | 1,307 | 980 | 964
Total |  | 649,064 | 539,295 | 464,741
¹ Regulatory areas and districts are defined at § 679.2. (W = Western Gulf of Alaska; C = Central Gulf of Alaska; E = Eastern Gulf of Alaska; WYK = West Yakutat District; SEO = Southeast Outside District; GW = Gulf-wide). The 2026 harvest specifications are effective from 0001 hours, A.l.t., January 1, 2026, through 1200 hours, A.l.t., March 17, 2026.
² The total for the W/C/WYK Regulatory Areas pollock ABC is 133,075 mt. After deducting 2.5 percent (3,326 mt) of that ABC for the State's pollock GHL fishery, the remaining pollock ABC of 129,749 mt (for the W/C/WYK Regulatory Areas) is apportioned among four statistical areas (Areas 610, 620, 630, and 640). The TACs in Areas 610, 620, and 630 are further divided by season, as detailed in table 4 (Final 2026 Distribution of Pollock in the Western and Central Regulatory Areas of the Gulf of Alaska, Area Apportionments, and Seasonal Allowances of Annual TAC). In the West Yakutat (Area 640) and Southeast Outside (Area 650) Districts of the Eastern Regulatory Area, pollock TACs are not divided into seasonal allowances.
³ The annual Pacific cod TAC is apportioned, after seasonal apportionment to the jig sector, as follows: (1) 63.84 percent to the A season and 36.16 percent to the B season and (2) 64.16 percent to the A season and 35.84 percent to the B season in the Western and Central Regulatory Areas of the GOA, respectively. Pacific cod TAC in the Eastern Regulatory Area of the GOA is allocated 90 percent to vessels harvesting Pacific cod for processing by the inshore component and 10 percent to vessels harvesting Pacific cod for processing by the offshore component. Table 6 lists the final 2026 Pacific cod seasonal apportionments and sector allocations.
⁴ The sablefish OFL and ABC are set Alaska-wide (57,797 mt and 47,008 mt, respectively), and the Alaska-wide totals are included in the total OFL and ABC in table 2. Additionally, sablefish TAC is allocated only to trawl gear for 2026, and the sablefish TAC allocated to fixed gear in 2026 will be specified in the 2026 and 2027 harvest specifications. Table 8 lists the final 2026 allocation of sablefish TACs to trawl gear.
⁵ “Shallow-water flatfish” means flatfish not including “deep-water flatfish,” flathead sole, rex sole, or arrowtooth flounder.
⁶ “Deep-water flatfish” means Dover sole, Greenland turbot, Kamchatka flounder, and deep sea sole.
⁷ “Pacific ocean perch” means Sebastes alutus.
⁸ “Northern rockfish” means Sebastes polyspinis. For management purposes, the 1 mt apportionment of ABC to the WYK District of the Eastern Gulf of Alaska has been included in the other rockfish species group.
⁹ “Shortraker rockfish” means Sebastes borealis.
¹⁰ “Dusky rockfish” means Sebastes variabilis.
¹¹ “Rougheye and blackspotted rockfish” mean Sebastes aleutianus (rougheye) and S. melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastolobus species.
¹⁴ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, “other rockfish” also includes northern rockfish, S. polyspinis.
¹⁵ “Big skate” means Beringraja binoculata.
¹⁶ “Longnose skate” means Raja rhina.
¹⁷ “Other skates” mean Bathyraja.

Apportionment of Reserves

Section 679.20(b)(2) requires NMFS to set aside 20 percent of each TAC for pollock, Pacific cod, flatfish, sharks, and octopuses in reserve for possible apportionment at a later date during the fishing year. For 2025 and 2026, NMFS proposed reapportionment of all the reserves in the proposed 2025 and 2026 harvest specifications published in the Federal Register on November 29, 2024 (89 FR 94680). NMFS did not receive any public comments on the proposed reapportionments. For the final 2025 and 2026 harvest specifications, NMFS reapportions, as proposed, all the reserves for pollock, Pacific cod, flatfish, sharks, and octopuses back to the original TAC limit from which the reserve was derived (§ 679.20(b)(3)). This is because NMFS expects, based on recent harvest patterns, that such reserves are not necessary or that the entire TAC for each of these species will be caught. The TACs listed in tables 1 and 2 reflect reapportionments of reserve amounts to the original TAC limit for these species and species groups (i.e., each final TAC for the above-mentioned species or species groups contains the full TAC recommended by the Council).

Apportionments of Pollock TAC Among Seasons and Regulatory Areas, and Allocations for Processing by Inshore and Offshore Components

In the GOA, pollock is apportioned by season and area and is further allocated for processing by inshore and offshore components. Pursuant to § 679.20(a)(5)(iv)(B), the annual pollock TAC specified for the Western and Central Regulatory Areas of the GOA is apportioned into two seasonal allowances of 50 percent. As established by § 679.23(d)(2), the A and B season allowances are available from January 20 through May 31 and September 1 through November 1, respectively.

Pollock TACs in the Western and Central Regulatory Areas of the GOA are apportioned among Statistical Areas 610, 620, and 630 in proportion to the distribution of pollock biomass determined by the most recent NMFS surveys, pursuant to § 679.20(a)(5)(iv)(A). The pollock chapter of the 2024 SAFE report (see ADDRESSES) contains a comprehensive description of the apportionment and reasons for the minor changes from past apportionments. Pollock is specified between two seasons for the Western and Central Regulatory Areas of the GOA (i.e., the A and B seasons). There are four seasonal apportionments, A, B, C, and D seasons, as outlined in the 2024 GOA pollock assessment in the 2024 SAFE report. The GOA pollock stock assessment continues to use a four-season methodology to determine pollock distribution in the Western and Central Regulatory Areas of the GOA to maintain continuity in the historical pollock apportionment time-series. A and B seasons from the assessment are aggregated into the A season for the purposes of specifications and C and D seasons from the assessment are aggregated into the B season for the purposes of specifications. This method is described and calculated in the 2024 GOA pollock assessment.

Within any fishing year, the amount by which a pollock seasonal allowance is under harvested or overharvested may be added to, or subtracted from, the subsequent seasonal allowance for the Western and Central Regulatory Areas in a manner to be determined by the Regional Administrator (§ 679.20(a)(5)(iv)(B)). The rollover amount is limited to 20 percent of the subsequent seasonal TAC apportionment for the statistical area. Any unharvested pollock above the 20-percent limit could be further distributed to the other statistical areas, in proportion to the estimated biomass in the subsequent season in those statistical areas and in an amount that is no more than 20 percent of the seasonal TAC apportionment in those statistical areas (§ 679.20(a)(5)(iv)(B)). The pollock TACs in the WYK and the SEO Districts for 2025 are 5,282 mt and 9,749 mt, respectively. The pollock TACs in the WYK and SEO Districts for 2026 are 3,883 mt and 9,749 mt, respectively. The pollock TACs in the WYK and SEO Districts are not allocated seasonally.

Tables 3 and 4 list the final 2025 and 2026 area apportionments and seasonal allowances of pollock in the Western and Central Regulatory Areas. The amounts of pollock for processing by the inshore and offshore components are not shown. Section 679.20(a)(6)(i) requires the allocation of 100 percent of the pollock TAC in all GOA regulatory areas and all seasonal allowances to vessels catching pollock for processing by the inshore component after subtraction of pollock amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Table 3—Final 2025 Distribution of Pollock in the Western and Central Regulatory Areas of the Gulf of Alaska; Area Apportionments; and Seasonal Allowances of Annual TAC
[Values are rounded to the nearest metric ton ¹]
Season ² | Shumigan (Area 610) | Chirikof (Area 620) | Kodiak (Area 630) | Total ³
A (January 20-May 31) | 5,589 | 63,267 | 16,751 | 85,607
B (September 1-November 1) | 31,755 | 18,998 | 34,854 | 85,607
Annual Total | 37,344 | 82,265 | 51,605 | 171,214
¹ Area apportionments and seasonal allowances may not total precisely due to rounding. The 2025 harvest specifications for pollock are effective from 1200 hours, A.l.t., March 18, 2025, through 2400 hours, A.l.t., December 31, 2025.
² As established by § 679.23(d)(2), directed fishing for pollock in the Western and Central Regulatory Areas is authorized only during the following two seasons: January 20 through May 31 and September 1 through November 1, respectively. The amounts of pollock for processing by the inshore and offshore components are not shown in this table.
³ The West Yakutat and Southeast Outside District pollock TACs are not allocated by season and are not included in the total pollock TACs shown in this table.

Table 4—Final 2026 Distribution of Pollock in the Western and Central Regulatory Areas of the Gulf of Alaska; Area Apportionments; and Seasonal Allowances of Annual TAC
[Values are rounded to the nearest metric ton ¹]
Season ² | Shumigan (Area 610) | Chirikof (Area 620) | Kodiak (Area 630) | Total ³
A (January 20-May 31) | 4,109 | 46,510 | 12,314 | 62,933
B (September 1-November 1) | 23,344 | 13,967 | 25,622 | 62,933
Annual Total | 27,453 | 60,477 | 37,936 | 125,866
¹ Area apportionments and seasonal allowances may not total precisely due to rounding. The 2026 harvest specifications for pollock are effective from 0001 hours, A.l.t., January 1, 2026, through 1200 hours, A.l.t., March 17, 2026.
² As established by § 679.23(d)(2), directed fishing for pollock in the Western and Central Regulatory Areas is authorized only during the following two seasons: January 20 through May 31 and September 1 through November 1, respectively. The amounts of pollock for processing by the inshore and offshore components are not shown in this table.
³ The West Yakutat and Southeast Outside District pollock TACs are not allocated by season and are not included in the total pollock TACs shown in this table.

Annual and Seasonal Apportionments of Pacific Cod TAC

Pursuant to § 679.20(a)(12)(i), NMFS seasonally allocates the 2025 and 2026 Pacific cod TACs in the Western and Central Regulatory Areas of the GOA among gear and operational sectors. In the Western and Central Regulatory Areas, a portion of the annual TAC is apportioned to the A season for hook-and-line, pot, and jig gear from January 1 through June 10, and for trawl gear from January 20 through June 10, and a portion of the annual TAC is apportioned to the B season for jig gear from June 10 through December 31, for hook-and-line and pot gear from September 1 through December 31, and for trawl gear from September 1 through November 1 (§§ 679.20(a)(12) and 679.23(d)(3)). NMFS also allocates the Pacific cod TACs annually between the inshore (90 percent) and offshore (10 percent) components in the Eastern Regulatory Area of the GOA (§ 679.20(a)(6)(ii)).

In the Central GOA, the Pacific cod TAC is first apportioned seasonally to vessels using jig gear, then to catcher vessels (CVs) less than 50 feet (15.2 meters (m)) in length overall using hook-and-line gear, CVs equal to or greater than 50 feet (15.2 m) in length overall using hook-and-line gear, catcher/processors (CPs) using hook-and-line gear, CVs using trawl gear, CPs using trawl gear, and vessels using pot gear (§ 679.20(a)(12)(i)(B)). In the Western GOA, the Pacific cod TAC is first apportioned seasonally to vessels using jig gear, then to CVs using hook-and-line gear, CPs using hook-and-line gear, CVs using trawl gear, CPs using trawl gear, and vessels using pot gear (§ 679.20(a)(12)(i)(A)). After seasonal apportionments of TACs to the jig sector (which are 60 percent to the A season and 40 percent to the B season), § 679.20(a)(12)(i) requires that NMFS seasonally apportions the remainder of the annual Pacific cod TACs in the Western GOA as 63.84 percent to the A season and 36.16 percent to the B season, and in the Central GOA as 64.16 percent to the A season and 35.84 percent to the B season.

Under § 679.20(a)(12)(ii), any overage or underage of Pacific cod allocated to a sector in the A season may be subtracted from, or added to, the subsequent B season. In addition, any portion of a sector's allocation that is determined by NMFS as likely to go unharvested by that sector may be reallocated to other sectors for harvest during the remainder of the fishing year consistent with the reallocation priorities prescribed in regulation and the capability of a sector to harvest the remaining TAC.

Pursuant to § 679.20(a)(12)(i)(A) and (B), a portion of the annual Pacific cod TACs in the Western and Central GOA will be allocated to vessels that use jig gear before the TACs are apportioned among other non-jig gear sectors. In accordance with the FMP, the annual jig sector allocations may increase to up to 6 percent of the annual Western and Central GOA Pacific cod TACs, depending on the annual performance of the jig sector (see table 1 in the final rule implementing Amendment 83 to the FMP for a examples of harvest scenarios affecting annual jig sector allocations (76 FR 74670, December 1, 2011)). Jig sector allocation increases are established for a minimum of 2 years. Jig sector allocation decreases are established for 1 year.

NMFS has evaluated the historical harvest performance of the jig sector in the Western and Central GOA and is establishing the 2025 and 2026 Pacific cod apportionments to this sector based on its historical harvest performance through 2024. For 2025 and 2026, NMFS allocates the jig sector 3.5 percent of the annual Pacific cod TAC in the Western GOA. The 2025 and 2026 allocations consist of a base allocation of 1.5 percent of the Western GOA Pacific cod TAC and a performance increase of 2.0 percent based on harvest performance through 2024. For 2025 and 2026, NMFS allocates the jig sector 3.0 percent of the annual Pacific cod TAC in the Central GOA. The 2025 and 2026 allocations consist of a base allocation of 1.0 percent of the Central GOA Pacific cod TAC and a performance increase of 2.0 percent based on harvest performance through 2024. The 2026 allocations of the annual Pacific cod TACs in the Western and Central GOA to jig gear may change based on the harvest performance of the sector in 2025, which NMFS will evaluate in the 2026 and 2027 harvest specifications.

Tables 5 and 6 list the seasonal apportionments and allocations of the 2025 and 2026 Pacific cod TACs.

Table 5—Final 2025 Seasonal Apportionments and Allocation of Pacific Cod Total Allowable Catch (TAC) Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (3.5% of TAC) | 213 | n/a | 128 | n/a | 85
Hook-and-line CV | 82 | 0.7 | 41 | 0.7 | 41
Hook-and-line CP | 1,165 | 10.9 | 641 | 8.90 | 524
Trawl CV | 2,260 | 31.54 | 1,856 | 6.86 | 404
Trawl CP | 141 | 0.9 | 53 | 1.5 | 88
All Pot CV and Pot CP | 2,236 | 19.8 | 1,165 | 18.2 | 1,071
Total | 6,097 | 63.84 | 3,884 | 36.16 | 2,213
Central GOA:
Jig (3.0% of TAC) | 462 | n/a | 277 | n/a | 185
Hook-and-line <50 CV | 2,178 | 9.32 | 1,389 | 5.29 | 789
Hook-and-line ≥50 CV | 1,000 | 5.61 | 836 | 1.1 | 164
Hook-and-line CP | 762 | 4.11 | 613 | 1 | 149
Trawl CV ¹ | 6,203 | 25.29 | 3,773 | 16.29 | 2,430
Trawl CP | 626 | 2 | 299 | 2.19 | 327
All Pot CV and Pot CP | 4,148 | 17.83 | 2,660 | 9.98 | 1,488
Total | 15,379 | 64.16 | 9,847 | 35.84 | 5,532
Eastern GOA |  | Inshore (90% of Annual TAC) |  | Offshore (10% of Annual TAC)
| 2,194 | 1,975 |  | 219
Note: The 2025 harvest specifications for Pacific cod are effective from 1200 hours, A.l.t., March 18, 2025, through 2400 hours, A.l.t., December 31, 2025.
¹ Trawl catcher vessels participating in Rockfish Program cooperatives receive 3.81 percent, or 586 mt, of the annual Central GOA TAC (see table 28c to 50 CFR part 679). This apportionment is deducted from the Trawl CV B season allowance (see table 12 of this rule: Final 2025 Apportionments of Rockfish Secondary Species in the Central GOA to Catcher Vessel and Catcher/Processor Cooperatives).

Table 6—Final 2026 Seasonal Apportionments and Allocation of Pacific Cod Total Allowable Catch (TAC) Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (3.5% of TAC) | 200 | n/a | 120 | n/a | 80
Hook-and-line CV | 78 | 0.7 | 39 | 0.7 | 39
Hook-and-line CP | 1,094 | 10.9 | 602 | 8.9 | 492
Trawl CV | 2,122 | 31.54 | 1,743 | 6.86 | 379
Trawl CP | 133 | 0.9 | 50 | 1.5 | 83
All Pot CV and Pot CP | 2,100 | 19.8 | 1,094 | 18.2 | 1,006
Total | 5,727 | 63.84 | 3,648 | 36.16 | 2,079
Central GOA:
Jig (3.0% of TAC) | 433 | n/a | 260 | n/a | 173
Hook-and-line <50 CV | 2,046 | 9.32 | 1,305 | 5.29 | 741
Hook-and-line ≥50 CV | 940 | 5.61 | 786 | 1.1 | 154
Hook-and-line CP | 715 | 4.11 | 575 | 1 | 140
Trawl CV ¹ | 5,828 | 25.29 | 3,545 | 16.29 | 2,283
Trawl CP | 588 | 2 | 281 | 2.19 | 307
All Pot CV and Pot CP | 3,897 | 17.83 | 2,499 | 9.98 | 1,398
Total | 14,447 | 64.16 | 9,251 | 35.84 | 5,196
Eastern GOA |  | Inshore (90% of Annual TAC) |  | Offshore (10% of Annual TAC)
| 2,061 | 1,855 |  | 206
Note: The 2026 harvest specifications for Pacific cod are effective from 0001 hours, A.l.t., January 1, 2026, through 1200 hours, A.l.t., March 17, 2026.
¹ Trawl catcher vessels participating in Rockfish Program cooperatives receive 3.81 percent, or 550 mt, of the annual Central GOA TAC (see table 28c to 50 CFR part 679). This apportionment is deducted from the Trawl CV B season allowance (see table 13 of this rule: Final 2026 Apportionments of Rockfish Secondary Species in the Central GOA to Catcher Vessel and Catcher/Processor Cooperatives).

Allocations of the Sablefish TAC Amounts to Vessels Using Fixed and Trawl Gear

Section 679.20(a)(4)(i) and (ii) require allocations of sablefish TACs for each of the regulatory areas to fixed and trawl gear. In the Western and Central Regulatory Areas, 80 percent of each TAC is allocated to fixed gear, and 20 percent of each TAC is allocated to trawl gear. In the Eastern Regulatory Area, 95 percent of the TAC is allocated to fixed gear, and 5 percent is allocated to trawl gear. The trawl gear allocation in the Eastern Regulatory Area may only be used to support incidental catch of sablefish using trawl gear while directed fishing for other target species (§ 679.20(a)(4)(i)).

In recognition of the prohibition against trawl gear in the SEO District of the Eastern Regulatory Area, the Council recommended, and NMFS approves, specifying for incidental catch the allocation of 5 percent of the combined Eastern Regulatory Area sablefish TAC to trawl gear in the WYK District of the Eastern Regulatory Area. The remainder of the WYK District sablefish TAC is allocated to vessels using fixed gear. NMFS allocates 100 percent of the sablefish TAC in the SEO District to vessels using fixed gear. This results in 2025 allocations of 417 mt to trawl gear and 2,269 mt to fixed gear in the WYK District, a 2025 allocation of 5,660 mt to fixed gear in the SEO District, and a 2026 allocation of 412 mt to trawl gear in the WYK District. Table 7 lists the allocations of the 2025 sablefish TACs to fixed and trawl gear. Table 8 lists the allocations of the 2026 sablefish TACs to trawl gear.

The Council recommended and NMFS agrees that only trawl sablefish TAC be established biennially and that fixed gear sablefish TAC be established for one year. The trawl sablefish TAC is established for 2025 and 2026 so that retention of incidental catch of sablefish by trawl gear could commence in January in the second year of the groundfish harvest specifications. Both the 2025 and 2026 trawl allocations are specified in these final harvest specifications in tables 7 and 8, respectively.

The fixed gear sablefish TAC is established annually to ensure that this Individual Fishing Quota (IFQ) fishery is conducted concurrently with the halibut IFQ fishery and is based on the most recent survey information. Since there is an annual assessment for sablefish and the final harvest specifications are expected to be published before the IFQ season begins in March, NMFS specifies the fixed gear sablefish TAC annually to ensure that the sablefish IFQ fishery is conducted concurrently with the halibut IFQ fishery. Concurrent sablefish and halibut IFQ fisheries reduce the potential for discards of halibut and sablefish in those fisheries. Accordingly, table 7 lists the 2025 fixed gear allocations, and the 2026 fixed gear allocations will be specified in the 2026 and 2027 harvest specifications.

With the exception of the trawl gear allocations that are provided to the Rockfish Program (see table 28c to 50 CFR part 679), directed fishing for sablefish with trawl gear in the GOA is closed during the fishing year (see table 27). Also, fishing for groundfish with trawl gear is prohibited prior to January 20 (§ 679.23(c)). Therefore, it is not likely that the sablefish allocation to trawl gear will be reached before the effective date of these final 2025 and 2026 harvest specifications.

Table 7—Final 2025 Sablefish TAC Amounts in the Gulf of Alaska and Allocations to Fixed and Trawl Gear
[Values are rounded to the nearest metric ton]
Area/district | TAC | Fixed gear allocation | Trawl gear allocation
Western | 4,746 | 3,797 | 949
Central ¹ | 9,744 | 7,795 | 1,949
West Yakutat ² | 2,686 | 2,269 | 417
Southeast Outside | 5,660 | 5,660 | 0
Total | 22,836 | 19,521 | 3,315
Note: The 2025 sablefish allocations to fixed and trawl gear are effective from 1200 hours, A.l.t., March 18, 2025, through 2400 hours, A.l.t., December 31, 2025.
¹ The trawl allocation of sablefish in the Central Regulatory Area is further apportioned to the Rockfish Program cooperatives (1,003 mt). See table 28c to 50 CFR part 679 and table 12 of this rule: Final 2025 Apportionments of Rockfish Secondary Species in the Central GOA to Catcher Vessel and Catcher/Processor Cooperatives. This results in 946 mt being available for the non-Rockfish Program trawl fisheries.
² The trawl allocation is based on allocating 5 percent of the combined Eastern Regulatory Area (West Yakutat and Southeast Outside Districts) sablefish TAC as incidental catch to trawl gear in the West Yakutat District.

Table 8—Final 2026 Sablefish TAC Amounts in the Gulf of Alaska and Allocations to Trawl Gear ¹
[Values are rounded to the nearest metric ton]
Area/district | TAC | Fixed gear allocation | Trawl gear allocation
Western | 4,687 | n/a | 937
Central ² | 9,622 | n/a | 1,924
West Yakutat ³ | 2,652 | n/a | 412
Southeast Outside | 5,589 | n/a | 0
Total | 22,550 | 0 | 3,274
Note: The 2026 sablefish allocations to trawl gear are effective from 0001 hours, A.l.t., January 1, 2026, through 1200 hours, A.l.t., March 17, 2026.
¹ The Council recommended and NMFS agrees that the final 2026 harvest specifications for the fixed gear sablefish Individual Fishing Quota fisheries not be specified in the final 2025 and 2026 harvest specifications. The final 2026 harvest specifications for fixed gear will be specified in the 2026 and 2027 harvest specifications.
² The trawl allocation of sablefish in the Central Regulatory Area is further apportioned to the Rockfish Program cooperatives (990 mt) (see table 28c to 50 CFR part 679 and table 13 of this rule: Final 2026 Apportionments of Rockfish Secondary Species in the Central GOA to Catcher Vessel and Catcher/Processor Cooperatives). This results in 934 mt being available for the non-Rockfish Program trawl fisheries.
³ The trawl allocation is based on allocating 5 percent of the combined Eastern Regulatory Area (West Yakutat and Southeast Outside Districts) sablefish TAC as incidental catch to trawl gear in the West Yakutat District.

Allocations, Apportionments, and Sideboard Limits for the Rockfish Program

These final 2025 and 2026 harvest specifications for the GOA include the fishery cooperative allocations and sideboard limitations established by the Rockfish Program. Rockfish Program participants are primarily trawl CVs and trawl CPs, with limited participation by vessels using longline gear. The Rockfish Program assigns quota share and cooperative quota to participants for primary species (i.e., Pacific ocean perch, northern rockfish, and dusky rockfish) and secondary species (i.e., Pacific cod, rougheye and blackspotted rockfish, sablefish, shortraker rockfish, and thornyhead rockfish), allows a participant holding a limited license privilege (LLP) license with rockfish quota share to form a rockfish cooperative with other persons, and allows holders of CP LLP licenses to opt out of the fishery. The Rockfish Program also has an entry-level fishery for rockfish primary species for vessels using longline gear. Longline gear includes hook-and-line, jig, troll, and handline gear.

Under the Rockfish Program, rockfish primary species in the Central GOA are allocated to participants after deducting for incidental catch needs in other directed groundfish fisheries (§ 679.81(a)(2)). Participants in the Rockfish Program also receive a portion of the Central GOA TAC of specific secondary species. In addition to groundfish species, the Rockfish Program assigns a portion of the halibut PSC limit (191.4 mt) from the third season deep-water species fishery allowance for the GOA trawl fisheries to Rockfish Program participants (§ 679.81(d) and table 28d to 50 CFR part 679). The Rockfish Program also establishes sideboard limits to restrict the ability of harvesters operating under the Rockfish Program to increase their participation in other, non-Rockfish Program fisheries. These restrictions and halibut PSC limits are discussed in the Rockfish Program Groundfish Sideboard and Halibut PSC Limitations section of this rule.

Section 679.81(a)(2)(ii) and table 28e to 50 CFR part 679 require allocations of 5 mt of Pacific ocean perch, 5 mt of northern rockfish, and 50 mt of dusky rockfish to the entry-level longline fishery in 2025 and 2026. The allocations for the entry-level longline fishery may increase incrementally each year if the catch in the previous year exceeds 90 percent of the allocation of a species. The incremental increase in the allocation would continue each year until it reaches the maximum percentage of the TAC assigned to the Rockfish Program for that species. In 2024, the catch of Pacific ocean perch, northern rockfish, and dusky rockfish did not attain the 90 percent threshold, and the final allocations for 2025 therefore remain the same as the 2024 allocations. The remainder of the TACs for the rockfish primary species are allocated to the CV and CP cooperatives (§ 679.81(a)(2)(iii)). Table 9 lists the allocations of the 2025 and 2026 TACs for each rockfish primary species to the entry-level longline fishery, the potential incremental increases for future years, and the maximum percentage of the TACs assigned to the Rockfish Program that may be allocated to the rockfish entry-level longline fishery.

Table 9—Final 2025 and 2026 Allocations of Rockfish Primary Species to the Entry-Level Longline Fishery in the Central Gulf of Alaska
Rockfish primary species | 2025 Allocations (metric tons) | Incremental increase in 2026 if >90% of 2025 allocation is harvested (metric tons) | Up to maximum percent of TAC
Pacific ocean perch | 5 | 5 | 1
Northern rockfish | 5 | 5 | 2
Dusky rockfish | 50 | 20 | 5
Note: The 2025 entry-level longline fishery allocations of rockfish primary species are effective from 1200 hours, A.l.t., March 18, 2025, through 2400 hours, A.l.t., December 31, 2025. The 2026 entry-level longline fishery allocations of rockfish primary species are effective from 0001 hours, A.l.t., January 1, 2026, through 1200 hours, A.l.t., March 17, 2026. NMFS will specify updated 2026 allocations in the 2026 and 2027 harvest specifications based on harvest in 2025.

Section 679.81 requires allocations of rockfish primary species among various sectors of the Rockfish Program. Tables 10 and 11 list the final 2025 and 2026 allocations of rockfish primary species in the Central GOA to the entry-level longline fishery, and rockfish CV and CP cooperatives in the Rockfish Program. NMFS also is setting aside incidental catch amounts (ICAs) for other directed fisheries in the Central GOA of 3,500 mt of Pacific ocean perch, 300 mt of northern rockfish, and 250 mt of dusky rockfish. These amounts are based on recent average incidental catches of these species in the Central GOA by other groundfish fisheries.

Allocations among vessels belonging to CV or CP cooperatives are not included in these final harvest specifications. Rockfish Program applications for CV cooperatives and CP cooperatives are not due to NMFS until March 1 of each calendar year; therefore, NMFS cannot calculate 2025 and 2026 cooperative allocations in conjunction with these final harvest specifications (§ 679.81(f)). After receiving the Rockfish Program applications, NMFS will calculate the 2025 allocations for CV and CP cooperatives, as set forth in § 679.81(b), (c), and (e). NMFS will announce the 2025 allocations after March 1 and post these allocations on the Alaska Region website at: https://www.fisheries.noaa.gov/alaska/sustainable-fisheries/alaska-fisheries-management-reports#central-goa-rockfish.

Table 10—Final 2025 Allocations of Rockfish Primary Species in the Central Gulf of Alaska to the Entry-Level Longline Fishery and Rockfish Cooperatives in the Rockfish Program
[Values are rounded to the nearest metric ton]
Rockfish primary species | Central GOA annual TAC | Incidental catch allowance | TAC minus ICA | Allocation to the entry-level longline ¹ fishery | Allocation to the Rockfish cooperatives ²
Pacific ocean perch | 28,209 | 3,500 | 24,709 | 5 | 24,704
Northern rockfish | 3,680 | 300 | 3,380 | 5 | 3,375
Dusky rockfish | 5,818 | 250 | 5,568 | 50 | 5,518
Total | 37,707 | 4,050 | 33,657 | 60 | 33,597
Note: The 2025 allocations of rockfish primary species in the Central Gulf of Alaska are effective from 1200 hours, A.l.t., March 18, 2025, through 2400 hours, A.l.t., December 31, 2025.
¹ Longline gear includes hook-and-line, jig, troll, and handline gear (§ 679.2).
² Rockfish cooperatives include vessels in CV and CP cooperatives (§ 679.81).

Table 11—Final 2026 Allocations of Rockfish Primary Species in the Central Gulf of Alaska to the Entry-Level Longline Fishery and Rockfish Cooperatives in the Rockfish Program
[Values are rounded to the nearest metric ton]
Rockfish primary species | Central GOA annual TAC | Incidental catch allowance | TAC minus ICA | Allocation to the entry-level longline ¹ fishery | Allocation to the Rockfish cooperatives ²
Pacific ocean perch | 27,156 | 3,500 | 23,656 | 5 | 23,651
Northern rockfish | 3,549 | 300 | 3,249 | 5 | 3,244
Dusky rockfish | 5,527 | 250 | 5,277 | 50 | 5,227
Total | 36,232 | 4,050 | 32,182 | 60 | 32,122
Note: The 2026 allocations of rockfish primary species in the Central Gulf of Alaska are effective from 0001 hours, A.l.t., January 1, 2026, through 1200 hours, A.l.t., March 17, 2026.
¹ Longline gear includes hook-and-line, jig, troll, and handline gear (§ 679.2).
² Rockfish cooperatives include vessels in CV and CP cooperatives (§ 679.81).

Section 679.81(c) and table 28c to 50 CFR part 679 require allocations of rockfish secondary species to CV and CP cooperatives in the Central GOA. CV cooperatives receive allocations of Pacific cod, sablefish from the trawl gear allocation, and thornyhead rockfish. CP cooperatives receive allocations of sablefish from the trawl gear allocation, rougheye and blackspotted rockfish, shortraker rockfish, and thornyhead rockfish. Tables 12 and 13 list the apportionments of the 2025 and 2026 TACs of rockfish secondary species in the Central GOA to CV and CP cooperatives.

Table 12—Final 2025 Apportionments of Rockfish Secondary Species in the Central GOA to Catcher Vessel and Catcher/Processor Cooperatives
[Values are rounded to the nearest metric ton]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 15,379 | 3.81 | 586 | n/a | n/a
Sablefish | 9,744 | 6.78 | 661 | 3.51 | 342
Shortraker rockfish | 189 | n/a | n/a | 40.0 | 76
Rougheye/blackspotted rockfish | 359 | n/a | n/a | 58.87 | 211
Thornyhead rockfish | 590 | 7.84 | 46 | 26.5 | 156
Note: The 2025 allocations of rockfish secondary species in the Central Gulf of Alaska are effective from 1200 hours, A.l.t., March 18, 2025, through 2400 hours, A.l.t., December 31, 2025.

Table 13—Final 2026 Apportionments of Rockfish Secondary Species in the Central GOA to Catcher Vessel and Catcher/Processor Cooperatives
[Values are rounded to the nearest metric ton]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 14,447 | 3.81 | 550 | n/a | n/a
Sablefish | 9,622 | 6.78 | 652 | 3.51 | 338
Shortraker rockfish | 189 | n/a | n/a | 40.0 | 76
Rougheye/blackspotted rockfish | 366 | n/a | n/a | 58.87 | 215
Thornyhead rockfish | 590 | 7.84 | 46 | 26.5 | 156
Note: The 2026 allocations of rockfish secondary species in the Central Gulf of Alaska are effective from 0001 hours, A.l.t., January 1, 2026, through 1200 hours, A.l.t., March 17, 2026.

Halibut PSC Limits

Section 679.21(d) establishes annual halibut PSC limit apportionments of 1,705 mt for trawl gear, 256 mt for hook-and-line gear, and 9 mt for the demersal shelf rockfish (DSR) fishery in the SEO District. It also authorizes the establishment of apportionments for pot gear.

The DSR fishery in the SEO District is defined at § 679.21(d)(2)(ii)(A). This fishery is apportioned 9 mt of the halibut PSC limit in recognition of its small-scale harvests of groundfish (§ 679.21(d)(2)(i)(A)). The separate halibut PSC limit for the DSR fishery is intended to prevent that fishery from being impacted from the halibut PSC incurred by other GOA fisheries. NMFS estimates low halibut bycatch in the DSR fishery because the commercial GHL fishery for DSR has been closed since 2020 due to concerns about declining DSR biomass.

NMFS, after consultation with the Council, exempts pot gear, the sablefish IFQ fixed gear fishery categories, and jig gear from the non-trawl halibut PSC limit for 2025 and 2026. The Council recommended, and NMFS approves, these exemptions because: (1) the pot gear fisheries have low annual halibut bycatch mortality; (2) IFQ program regulations prohibit discard of legal-sized halibut if any halibut IFQ permit holder on board a catcher vessel holds unused halibut IFQ for that vessel category and the IFQ regulatory area in which the vessel is operating (§ 679.7(f)(11)); (3) some sablefish IFQ fishermen hold halibut IFQ permits and are therefore required to retain legal-sized halibut they catch while fishing sablefish IFQ; and (4) NMFS estimates negligible halibut mortality for the jig gear fisheries given the small amount of groundfish harvested by jig gear, the selective nature of jig gear, and the high survival rates of halibut caught and released with jig gear.

The best information available on estimated halibut bycatch consists of data collected by fisheries observers during 2024. The estimated halibut bycatch mortality through December 31, 2024 is 504 mt for trawl gear and 30 mt for hook-and-line gear for a total halibut mortality of 534 mt. The estimated halibut bycatch mortality was calculated using groundfish and halibut catch data from the NMFS Alaska Region's catch accounting system. This accounting system contains historical and recent catch information compiled from each Alaska groundfish fishery.

Sections 679.21(d)(4)(i) and (ii) authorize NMFS to seasonally apportion the halibut PSC limits after consultation with the Council. The FMP and regulations require that NMFS and the Council consider the following information in seasonally apportioning halibut PSC limits: (1) seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry. The Council considered information from the 2024 SAFE report, NMFS catch data, State catch data, International Pacific Halibut Commission (IPHC) stock assessment and mortality data, and public testimony when apportioning the halibut PSC limits. NMFS concurs with the Council's recommendations listed in table 14, which shows the final Pacific halibut PSC limits, allowances, and apportionments.

Sections 679.21(d)(4)(iii) and (iv) specify that any unused amounts, or overages, of a seasonal apportionment of a halibut PSC limit will be added to, or deducted from, the next respective seasonal apportionment within the fishing year.

Table 14—Final 2025 and 2026 Pacific Halibut Prohibited Species Catch (PSC) Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 30.5 | 520 | January 1-June 10 | 86 | 220 | January 1-December 31 | 9
April 1-July 1 | 20.0 | 341 | June 10-September 1 | 2 | 5 |  |
July 1-August 1 | 27.0 | 460 | September 1-December 31 | 12 | 31 |  |
August 1-October 1 | 7.5 | 128 |  |  |  |  |
October 1-December 31 | 15.0 | 256 |  |  |  |  |
Total |  | 1,705 |  |  | 256 |  | 9
Note: The 2025 Pacific halibut prohibited species catch limits, allowances, and apportionments are effective from 1200 hours, A.l.t., March 18, 2025, through 2400 hours, A.l.t., December 31, 2025. The 2026 Pacific halibut prohibited species catch limits, allowances, and apportionments are effective from 0001 hours, A.l.t., January 1, 2026, through 1200 hours, A.l.t., March 17, 2026.
¹ The Pacific halibut prohibited species catch (PSC) limit for hook-and-line gear is assigned to the DSR fishery in the SEO District and to the hook-and-line fisheries other than the DSR fishery. The fixed gear sablefish IFQ fishery is exempt from halibut PSC limits, as are pot and jig gear for all groundfish fisheries.

Section 679.21(d)(3)(ii) authorizes further apportionment of the trawl halibut PSC limit to trawl fishery categories listed in § 679.21(d)(3)(iii). The annual apportionments are based on each category's proportional share of the anticipated halibut bycatch mortality during the fishing year and optimization of the total amount of groundfish harvest under the halibut PSC limit. The fishery categories for the trawl halibut PSC limits are: (1) a deep-water species fishery, composed of sablefish, rockfish, deep-water flatfish, rex sole, and arrowtooth flounder; and (2) a shallow-water species fishery, composed of pollock, Pacific cod, shallow-water flatfish, flathead sole, Atka mackerel, and “other species” (i.e., sharks and octopuses) (§ 679.21(d)(3)(iii)).

NMFS will combine available trawl halibut PSC limit apportionments during a portion of the second season deep-water and shallow-water species fishery categories for use in either fishery category from May 15 through June 30 (§ 679.21(d)(4)(iii)(D)). This is intended to maintain groundfish harvest while minimizing halibut bycatch by these sectors to the extent practicable. This provides the deep-water and shallow-water species trawl fisheries additional flexibility and the incentive to participate in fisheries at times of the year that may have lower halibut PSC rates relative to other times of the year.

Table 15 lists the final apportionments of trawl halibut PSC limits between the trawl gear deep-water and shallow-water species fishery categories.

Table 28d to 50 CFR part 679 specifies the amount of the trawl halibut PSC limit that is assigned to the CV and CP sectors that are participating in the Rockfish Program. This includes 117 mt of halibut PSC limit to the CV sector and 74 mt of halibut PSC limit to the CP sector. These amounts are assigned from the trawl deep-water species fishery category's halibut PSC third seasonal apportionment. After the combined CV and CP halibut PSC limit allocation of 191 mt to the Rockfish Program, 149 mt remains for the trawl deep-water species fishery category's halibut PSC third seasonal apportionment.

Section 679.21(d)(4)(iii)(B) limits the amount of the halibut PSC limit assigned to Rockfish Program participants that could be re-apportioned to the last seasonal apportionment for the general GOA trawl fisheries during the current fishing year to no more than 55 percent of the unused annual halibut PSC limit apportioned to Rockfish Program participants. The remainder of the unused Rockfish Program halibut PSC limit is unavailable for use by any person for the remainder of the fishing year (§ 679.21(d)(4)(iii)(C)).

Table 15—Final 2025 and 2026 Apportionment of Pacific Halibut Prohibited Species Catch Limits Between the Trawl Gear Deep-Water Species Fishery and the Shallow-Water Species Fishery Categories
[Values are in metric tons]
Season | Shallow-water | Deep-water ¹ | Total
January 20-April 1 | 385 | 135 | 520
April 1-July 1 | 85 | 256 | 341
July 1-August 1 | 120 | 340 | 460
August 1-October 1 | 53 | 75 | 128
Subtotal January 20-October 1 | 643 | 806 | 1,449
October 1-December 31 ² | n/a | n/a | 256
Total | n/a | n/a | 1,705
Note: The 2025 apportionments of Pacific halibut prohibited species catch limits are effective from 1200 hours, A.l.t., March 18, 2025, through 2400 hours, A.l.t., December 31, 2025. The 2026 apportionments of Pacific halibut prohibited species catch limits are effective from 0001 hours, A.l.t., January 1, 2026, through 1200 hours, A.l.t., March 17, 2026.
¹ Vessels participating in cooperatives in the Central GOA Rockfish Program will receive 191 mt of the third season (July 1 through August 1) deep-water species fishery category halibut PSC apportionment (see table 28d to 50 CFR part 679).
² There is no apportionment between trawl shallow-water and deep-water species fishery categories during the fifth season (October 1 through December 31).

Section 679.21(d)(2)(i)(B) requires that the “other hook-and-line fishery” halibut PSC limit apportionment to vessels using hook-and-line gear must be apportioned between CVs and CPs in accordance with § 679.21(d)(2)(iii) in conjunction with these harvest specifications. The halibut PSC apportionment is based on the Western and Central GOA Pacific cod allocations, which vary annually based on the proportion of the Pacific cod biomass between the Western, Central, and Eastern GOA. Updated information in the final 2024 SAFE report describes this distributional calculation, which apportions ABC among GOA regulatory areas on the basis of the three most recent stock surveys. For 2025 and 2026, the distribution of the total GOA Pacific cod ABC is 27.1 percent to the Western GOA, 63.8 percent to the Central GOA, and 9.1 percent to the Eastern GOA. Therefore, the calculations made in accordance with § 679.21(d)(2)(iii) incorporate the most recent information on GOA Pacific cod distribution and allocations with respect to establishing the annual halibut PSC limits for the CV and CP hook-and-line sectors of the “other hook-and-line fishery.” Additionally, the annual halibut PSC limits for both the CV and CP sectors of the “other hook-and-line fishery” are divided into three seasonal apportionments, using seasonal percentages of 86 percent, 2 percent, and 12 percent.

In this final rule, NMFS apportions halibut PSC limits of 149 mt and 107 mt to the hook-and-line CV and hook-and-line CP sectors, respectively. Table 16 lists the final apportionments of halibut PSC limits between the hook-and-line CV and the hook-and-line CP sectors of the “other hook-and-line fishery.”

No later than November 1 of each year, NMFS will calculate the projected unused amount of halibut PSC limit by either of the CV or CP hook-and-line sectors that comprise the two sectors of the “other hook-and-line fishery” for the remainder of the year. The projected unused amount of halibut PSC limit is made available to the other sector for the remainder of that fishing year if NMFS determines that an additional amount of halibut PSC is necessary for that sector to continue its directed fishing operations (§ 679.21(d)(2)(iii)(C)).

Table 16—Final 2025 and 2026 Apportionments of the “Other Hook-and-Line Fishery” Annual Halibut Prohibited Species Catch Limit Between the Hook-and-Line Gear Catcher Vessel and Catcher/Processor Sectors
[Values are in metric tons]
“Other than DSR” allowance | Hook-and-line sector | Sector annual amount | Season | Seasonal percentage | Sector seasonal amount
256 | Catcher Vessel | 149 | January 1-June 10 | 86 | 128
|  |  | June 10-September 1 | 2 | 3
|  |  | September 1-December 31 | 12 | 18
| Catcher/Processor | 107 | January 1-June 10 | 86 | 92
|  |  | June 10-September 1 | 2 | 2
|  |  | September 1-December 31 | 12 | 13
Note: The 2025 apportionments of Pacific halibut prohibited species catch limits are effective from 1200 hours, A.l.t., March 18, 2025, through 2400 hours, A.l.t., December 31, 2025. The 2026 apportionments of Pacific halibut prohibited species catch limits are effective from 0001 hours, A.l.t., January 1, 2026, through 1200 hours, A.l.t., March 17, 2026.

Estimates of Halibut Biomass and Stock Condition

The IPHC annually assesses the abundance and potential yield of the Pacific halibut stock using all available data from the commercial and sport fisheries, other removals, and scientific surveys. Additional information on the Pacific halibut stock assessment may be found in the IPHC's 2024 Pacific halibut stock assessment (December 2024), available on the IPHC website at: https://www.iphc.int. The IPHC considered the 2024 Pacific halibut stock assessment at its January 2025 annual meeting when it set the 2025 commercial halibut fishery catch limits.

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observed estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual GOA stock assessment process. The DMR methodology and findings are included as an appendix to the annual GOA groundfish SAFE report.

In 2016, the DMR estimation methodology underwent revisions per the Council's recommendation. An interagency halibut working group of IPHC, Council, and NMFS staff developed improved estimation methods that have undergone review by the GOA Plan Team, SSC, and the Council. A summary of the revised methodology is contained in the GOA proposed 2017 and 2018 harvest specifications (81 FR 87881, December 6, 2016), and a comprehensive discussion of the working group's statistical methodology is available from the Council (see ADDRESSES). The DMR working group's revised methodology is intended to improve estimation accuracy, transparency, and transferability in the methodology used for calculating DMRs. The working group will continue to consider improvements to the methodology used to calculate halibut mortality, including potential changes to the reference period (i.e., the period of data used for calculating the DMRs). The new methodology continues to ensure that NMFS is using DMRs that accurately reflect halibut mortality, which will inform the sectors of their estimated halibut mortality and allow sectors to respond with methods that could reduce mortality and eventually the DMR for that sector.

At the December 2024 meeting, the SSC, AP, and Council concurred with the continued use of the revised DMR estimation methodology, and NMFS adopts for 2025 and 2026 the DMRs calculated under the revised methodology, which uses an updated 2-year and 4-year reference period depending on data availability. The final 2025 and 2026 DMRs in this rule are unchanged from the DMRs in the proposed 2025 and 2026 harvest specifications (89 FR 94680, November 29, 2024). Table 17 lists these final 2025 and 2026 DMRs.

Table 17—Final 2025 and 2026 Halibut Discard Mortality Rates for Vessels Fishing in the Gulf of Alaska
[Values are percent of halibut assumed to be dead]
Gear | Sector | Groundfish fishery | Halibut discard mortality rate (percent)
Pelagic trawl | Catcher vessel | All | 100
| Catcher/processor | All | 100
Non-pelagic trawl | Catcher vessel | Rockfish Program | 56
| Catcher vessel | All others | 74
| Mothership and catcher/processor | All | 76
Hook-and-line | Catcher/processor | All | 10
| Catcher vessel | All | 19
Pot | Catcher vessel and catcher/processor | All | 32
Note: The halibut DMRs are effective at 1200 hours, A.l.t., March 18, 2025, through 1200 hours, A.l.t., March 17, 2026.

Chinook Salmon Prohibited Species Catch Limits

There are Chinook salmon PSC limits for the directed pollock trawl fishery in the Western and Central GOA. NMFS is required to close the directed pollock fishery in the Western and Central Regulatory Areas of the GOA if the applicable Chinook salmon PSC limit in that regulatory area will be reached (§ 679.21(h)(8)). Section 679.21(h)(2) sets the annual Chinook salmon PSC limits in the directed pollock fishery of 6,684 salmon in the Western GOA and 18,316 salmon in the Central GOA. The Central GOA Chinook salmon PSC limit was reached in 2024 and NMFS closed directed fishing for pollock in the Central GOA on September 25, 2024, for the remainder of the 2024 fishing year (89 FR 79454, September 30, 2024).

There are also Chinook salmon PSC limits for the trawl non-pollock groundfish fisheries in the Western and Central GOA. Section 679.21(h)(3) and (4) establishes an initial annual PSC limit of 7,500 Chinook salmon for the trawl non-pollock groundfish fisheries in the Western and Central GOA. This limit is apportioned among the 3 sectors that conduct directed fishing for groundfish species other than pollock: (1) 3,600 Chinook salmon to trawl CPs; (2) 1,200 Chinook salmon to trawl CVs participating in the Rockfish Program; and (3) 2,700 Chinook salmon to trawl CVs not participating in the Rockfish Program (§ 679.21(h)(4)). NMFS will monitor the Chinook salmon PSC in the trawl non-pollock groundfish fisheries and close an applicable sector if it reaches its Chinook salmon PSC limit (§ 679.21(h)(8)).

The Chinook salmon PSC limit for two sectors, trawl CPs and trawl CVs not participating in the Rockfish Program, may be increased in subsequent years based on the performance of these two sectors and their ability to minimize their use of their respective Chinook salmon PSC limits during a calendar year. If either or both of these 2 sectors limits its use of Chinook salmon PSC during the year to the specified threshold amount (i.e., 3,120 for trawl CPs and 2,340 for Non-Rockfish Program trawl CVs), the Chinook salmon PSC limit the following year will be set to 4,080 and 3,060, respectively (§ 679.21(h)(4)). In 2024, the trawl CP sector did not exceed 3,120 Chinook salmon PSC; therefore, the 2025 trawl CP sector Chinook salmon PSC limit will be 4,080 Chinook salmon. In 2024, the Non-Rockfish Program trawl CV sector did not exceed 2,340 Chinook salmon PSC; therefore, the 2025 Non-Rockfish Program trawl CV sector Chinook salmon PSC limit will be 3,060 Chinook salmon. In the 2026 and 2027 harvest specifications, NMFS will specify the 2026 PSC limits for trawl CPs and Non-Rockfish Program trawl CV based on their performance and their ability to minimize their use of their respective Chinook salmon PSC limits during the 2025 calendar year (§ 679.21(h)(4)).

American Fisheries Act (AFA) Catcher/Processor and Catcher Vessel Groundfish Harvest Limits

Section 679.64 establishes groundfish harvesting and processing sideboard limitations on AFA CPs and CVs in the GOA. These sideboard limits are necessary to protect the interests of fishermen and processors who do not directly benefit from the AFA as compared to those fishermen and processors who receive exclusive harvesting and processing privileges under the AFA. In addition, § 679.7(k)(1)(ii) prohibits listed AFA CPs and CPs designated on a listed AFA CP permit from harvesting any species of groundfish in the GOA. Section 679.7(k)(1)(iv) prohibits listed AFA CPs and CPs designated on a listed AFA CP permit from processing any pollock harvested in a directed pollock fishery in the GOA and any groundfish harvested in Statistical Area 630 of the GOA.

Section 679.64(b)(3)(iv) establishes the CV groundfish sideboard limits in the GOA based on the aggregate retained catch by non-exempt AFA CVs of each sideboard species from 2009 through 2019 divided by the TAC for that species available to CVs from 2009 through 2019. Under the Pacific Cod Trawl Cooperative (PCTC) Program, NMFS modified the calculation of the sideboard ratios for non-exempt AFA CVs, using the qualifying years of 2009 through 2019 (88 FR 53704, August 8, 2023). Previously, sideboard limits were based on the ratio of catch to the TAC during the years 1995 through 1997.

Non-exempt AFA CVs are prohibited in regulation from directed fishing for specific groundfish species or species groups subject to sideboard limits (§ 679.20(d)(1)(iv)(D) and table 56 to 50 CFR part 679) (84 FR 2723, February 8, 2019). Under the PCTC Program, NMFS also promulgated regulations to prohibit non-exempt AFA CVs from directed fishing for additional groundfish species or species groups subject to sideboard limits (88 FR 53704, August 8, 2023). All of these directed fishing prohibitions are found in the revised table 56 to 50 CFR part 679. Sideboard limits for species or species groups not listed in table 56 continue to be calculated and included in the GOA annual harvest specifications.

Tables 18 and 19 list the final groundfish sideboard limits for non-exempt AFA CVs. NMFS will deduct all targeted or incidental catch of sideboard species made by non-exempt AFA CVs from the sideboard limits listed in tables 18 and 19.

Table 18—Final 2025 GOA Non-Exempt American Fisheries Act Catcher Vessel (CV) Groundfish Sideboard Limits
[Values are rounded to the nearest metric ton]
Species | Season | Area | Ratio of 2009-2019 non-exempt AFA CV retained catch to 2009-2019 TAC | Final 2025 TACs | Final 2025 non-exempt AFA CV sideboard limit
Pollock | A Season: January 20-May 31 | Shumagin (610) | 0.057 | 5,589 | 319
|  | Chirikof (620) | 0.064 | 63,267 | 4,049
|  | Kodiak (630) | 0.091 | 16,751 | 1,524
| B Season: September 1-November 1 | Shumagin (610) | 0.057 | 31,755 | 1,810
|  | Chirikof (620) | 0.064 | 18,998 | 1,216
|  | Kodiak (630) | 0.091 | 34,854 | 3,172
| Annual | WYK (640) | 0.026 | 5,282 | 137
Pacific cod | A Season ¹: January 1-June 10 | W | 0.009 | 3,884 | 35
|  | C | 0.011 | 9,847 | 108
| B Season ²: September 1-December 31 | W | 0.009 | 2,213 | 20
|  | C | 0.011 | 5,532 | 61
Flatfish, shallow-water | Annual | C | 0.011 | 28,279 | 311
Rex sole | Annual | C | 0.014 | 13,698 | 192
Arrowtooth flounder | Annual | C | 0.011 | 68,261 | 751
Flathead sole | Annual | C | 0.007 | 21,817 | 153
Note: The 2025 GOA non-exempt AFA CV groundfish sideboard limits are effective from 1200 hours, A.l.t., March 18, 2025, through 2400 hours, A.l.t., December 31, 2025.
¹ The Pacific cod A season for trawl gear does not open until January 20.
² The Pacific cod B season for trawl gear closes November 1.

Table 19—Final 2026 GOA Non-Exempt American Fisheries Act Catcher Vessel (CV) Groundfish Sideboard Limits
[Values are rounded to the nearest metric ton]
Species | Season | Area | Ratio of 2009-2019 non-exempt AFA CV retained catch to 2009-2019 TAC | Final 2026 TAC | Final 2026 non-exempt AFA CV sideboard limit
Pollock | A Season: January 20-May 31 | Shumagin (610) | 0.057 | 4,109 | 234
|  | Chirikof (620) | 0.064 | 46,510 | 2,977
|  | Kodiak (630) | 0.091 | 12,314 | 1,121
| B Season: September 1-November 1 | Shumagin (610) | 0.057 | 23,344 | 1,331
|  | Chirikof (620) | 0.064 | 13,967 | 894
|  | Kodiak (630) | 0.091 | 25,622 | 2,332
| Annual | WYK (640) | 0.026 | 3,883 | 101
Pacific cod | A Season ¹: January 1-June 10 | W | 0.009 | 3,648 | 33
|  | C | 0.011 | 9,251 | 102
| B Season ²: September 1-December 31 | W | 0.009 | 2,079 | 19
|  | C | 0.011 | 5,196 | 57
Flatfish, shallow-water | Annual | C | 0.011 | 28,455 | 313
Rex sole | Annual | C | 0.014 | 13,582 | 190
Arrowtooth flounder | Annual | C | 0.011 | 68,511 | 754
Flathead sole | Annual | C | 0.007 | 22,083 | 155
Note: The 2026 GOA non-exempt AFA CV groundfish sideboard limits are effective from 0001 hours, A.l.t., January 1, 2026, through 1200 hours, A.l.t., March 17, 2026.
¹ The Pacific cod A season for trawl gear does not open until January 20.
² The Pacific cod B season for trawl gear closes November 1.

Non-Exempt AFA Catcher Vessel Halibut PSC Limits

The non-exempt AFA catcher vessels and the associated LLP licenses PSC limit for halibut in the GOA will be an annual amount based on a static ratio of 0.072, which was derived from the aggregate retained groundfish catch by non-exempt AFA CVs in each PSC target category from 2009 through 2019 (§ 679.64(b)(4)(ii)). This change was implemented with the PCTC Program (88 FR 53704, August 8, 2023). Prior to the PCTC Program, the halibut PSC sideboard limits for non-exempt AFA CVs in the GOA were based on the aggregate retained groundfish catch by non-exempt AFA CVs in each PSC target category from 1995 through 1997 divided by the retained catch of all vessels in that fishery from 1995 through 1997. Table 20 lists the final non-exempt AFA CV halibut PSC sideboard limits for vessels using trawl gear in the GOA.

Table 20—Final 2025 and 2026 Non-Exempt AFA CV Halibut Prohibited Species Catch (PSC) Sideboard Limits for Vessels Using Trawl Gear in the GOA
Ratio (percent) | Annual trawl gear halibut PSC limit (mt) | Annual non-exempt AFA CV halibut PSC limit (mt)
0.072 | 1,705 | 123
Note: The non-exempt AFA CV halibut PSC sideboard limits are effective at 1200 hours, A.l.t., March 18, 2025, through 1200 hours, A.l.t., March 17, 2026.

Non-AFA Crab Vessel Groundfish Harvest Limitations

Section 680.22 establishes groundfish catch limits for vessels with a history of participation in the Bering Sea snow crab fishery to prevent these vessels from using the increased flexibility provided by the Crab Rationalization (CR) Program to expand their level of participation in the GOA groundfish fisheries. Sideboard limits restrict these vessels' catch to their collective historical landings in each GOA groundfish fishery (except the fixed-gear sablefish fishery). Sideboard limits also apply to catch made using an LLP license derived from the history of a restricted vessel, even if that LLP license is used on another vessel.

The basis for these sideboard limits is described in detail in the final rules implementing the major provisions of the CR Program, including Amendments 18 and 19 to the Fishery Management Plan for Bering Sea/Aleutian Islands King and Tanner Crabs (Crab FMP) (70 FR 10174, March 2, 2005), Amendment 34 to the Crab FMP (76 FR 35772, June 20, 2011), Amendment 83 to the GOA FMP (76 FR 74670, December 1, 2011), Amendment 45 to the Crab FMP (80 FR 28539, May 19, 2015). In addition, through rulemaking (84 FR 2723, February 8, 2019), non-AFA crab vessels are prohibited from directed fishing for all groundfish species or species groups subject to sideboard limits, except for Pacific cod apportioned to CVs using pot gear in the Western and Central Regulatory Areas (§ 680.22(e)(1)(iii)).

Tables 21 and 22 list the final groundfish sideboard limitations for non-AFA crab vessels. All targeted or incidental catch of sideboard species made by non-AFA crab vessels or associated LLP licenses will be deducted from these sideboard limits.

Table 21—Final 2025 GOA Non-American Fisheries Act Crab Vessel Groundfish Sideboard Limits
[Values are rounded to the nearest metric ton]
Species | Season | Area/gear | Ratio of 1996-2000 non-AFA crab vessel catch to 1996-2000 total harvest | Final 2025 TACs | Final 2025 non-AFA crab vessel sideboard limit
Pacific cod | A Season: January 1-June 10 | Western Pot CV | 0.0997 | 3,884 | 387
|  | Central Pot CV | 0.0474 | 9,847 | 467
| B Season: September 1-December 31 | Western Pot CV | 0.0997 | 2,213 | 221
|  | Central Pot CV | 0.0474 | 5,532 | 262
Note: The 2025 GOA non-AFA crab vessel groundfish sideboard limits are effective from 1200 hours, A.l.t., March 18, 2025, through 2400 hours, A.l.t., December 31, 2025.

Table 22—Final 2026 GOA Non-American Fisheries Act Crab Vessel Groundfish Sideboard Limits
[Values are rounded to the nearest metric ton]
Species | Season | Area/gear | Ratio of 1996-2000 non-AFA crab vessel catch to 1996-2000 total harvest | Final 2026 TACs | Final 2026 non-AFA crab vessel sideboard limit
Pacific cod | A Season: January 1-June 10 | Western Pot CV | 0.0997 | 3,648 | 364
|  | Central Pot CV | 0.0474 | 9,251 | 438
| B Season: September 1-December 31 | Western Pot CV | 0.0997 | 2,079 | 207
|  | Central Pot CV | 0.0474 | 5,196 | 246
Note: The 2026 GOA non-AFA crab vessel groundfish sideboard limits are effective from 0001 hours, A.l.t., January 1, 2026, through 1200 hours, A.l.t., March 17, 2026.

Rockfish Program Groundfish Sideboard and Halibut PSC Limitations

The Rockfish Program establishes three classes of sideboard provisions: (1) CV groundfish sideboard restrictions; (2) CP rockfish sideboard restrictions; and (3) CP opt-out vessel sideboard restrictions (§ 679.82(c)(1)). These sideboards are intended to limit the ability of rockfish harvesters to expand into other GOA groundfish fisheries.

CVs participating in the Rockfish Program may not participate in directed fishing for dusky rockfish, Pacific ocean perch, and northern rockfish in the West Yakutat District and Western GOA from July 1 through July 31. Also, CVs may not participate in directed fishing for arrowtooth flounder, deep-water flatfish, and rex sole in the GOA from July 1 through July 31 (§ 679.82(d)).

CPs participating in Rockfish Program cooperatives are restricted by rockfish and halibut PSC sideboard limits. These CPs are prohibited from directed fishing for dusky rockfish, Pacific ocean perch, and northern rockfish in the West Yakutat District and Western GOA from July 1 through July 31 (§ 679.82(e)(2)). Prior to 2021, CPs participating in Rockfish Program cooperatives were restricted by rockfish sideboard limits in the Western GOA. A final rule that implemented Amendment 111 to the FMP (86 FR 11895, March 1, 2021) removed from regulation the Western GOA rockfish sideboard limits for Rockfish Program CPs. That rule also revised and clarified the establishment of the West Yakutat District rockfish sideboard ratios in regulation. The rockfish sideboard ratio for each rockfish fishery in the West Yakutat District is an established percentage of the TAC for CPs in the directed fishery for dusky rockfish and Pacific ocean perch (§ 679.82(e)(4)). These percentages are confidential.

Holders of CP-designated LLP licenses that opt out of participating in a Rockfish Program cooperative will be able to access that portion of each rockfish sideboard limit that is not assigned to rockfish cooperatives (§ 679.82(e)(7)).

Under the Rockfish Program, the CP sector is subject to halibut PSC sideboard limits for the trawl deep-water and shallow-water species fisheries (§ 679.82(e)(3) and (5)). Halibut PSC sideboard ratios by fishery are set forth in § 679.82(e)(5). The CP sector halibut PSC sideboard limits are effective from July 1 through July 31 (§ 679.82(c)(4) and (e)(6)). No halibut PSC sideboard limits apply to the CV sector, as CVs participating in cooperatives receive a portion of the annual halibut PSC limit. CPs that opt out of the Rockfish Program are able to access that portion of the deep-water and shallow-water species fishery halibut PSC sideboard limit not assigned to CP rockfish cooperatives. The sideboard provisions for CPs that elect to opt out of participating in a rockfish cooperative are described in § 679.82(c), (e), and (f). Sideboard limits are linked to the catch history of specific vessels; however, some of these vessels may choose to opt out of the Rockfish Program. After March 1, NMFS will determine which CPs have opted-out of the Rockfish Program in 2025, and NMFS will know the ratios and amounts used to calculate opt-out sideboard ratios. NMFS will then calculate any applicable opt-out sideboards for 2025. NMFS will announce these limits after March 1 and post the limits on the Alaska Region website at: https://www.fisheries.noaa.gov/alaska/sustainable-fisheries/alaska-fisheries-management-reports#central-goa-rockfish. Table 23 lists the final Rockfish Program halibut PSC sideboard limits for the CP sector.

Table 23—Final 2025 and 2026 Rockfish Program Halibut PSC Sideboard Limits for the Catcher/Processor Sector
[Values are rounded to the nearest metric ton]
Sector | Shallow-water species fishery halibut PSC sideboard ratio (percent) | Deep-water species fishery halibut PSC sideboard ratio (percent) | 2025 and 2026 halibut mortality limit (mt) | Annual shallow-water species fishery halibut PSC sideboard limit (mt) | Annual deep-water species fishery halibut PSC sideboard limit (mt)
Catcher/processor | 0.10 | 2.50 | 1,705 | 2 | 43
Note: The Rockfish Program halibut PSC sideboard limits are effective at 1200 hours, A.l.t., March 18, 2025, through 1200 hours, A.l.t., March 17, 2026.

Amendment 80 Program Groundfish and PSC Sideboard Limits

Amendment 80 to the Fishery Management Plan for Groundfish of the Bering Sea and Aleutian Islands Management Area (Amendment 80 Program) established a limited access privilege program for the non-AFA trawl CP sector. The Amendment 80 Program established groundfish and halibut PSC catch limits for Amendment 80 Program participants to limit the ability of participants eligible for the Amendment 80 Program to expand their harvest efforts in the GOA.

Section 679.92 establishes groundfish harvesting sideboard limits on all Amendment 80 program vessels, other than the fishing vessel (F/V) “Golden Fleece,” to amounts no greater than the limits listed in table 37 to 50 CFR part 679. Under § 679.92(d), the F/V “Golden Fleece” is prohibited from directed fishing for pollock, Pacific cod, Pacific ocean perch, dusky rockfish, and northern rockfish in the GOA.

Groundfish sideboard limits for Amendment 80 Program vessels operating in the GOA are based on their average aggregate harvests from 1998 through 2004 (72 FR 52668, September 14, 2007). Tables 24 and 25 list the final groundfish sideboard limits for Amendment 80 Program vessels. NMFS will deduct all targeted or incidental catch of sideboard species made by Amendment 80 Program vessels from the sideboard limits in tables 24 and 25.

Table 24—Final 2025 GOA Groundfish Sideboard Limits for Amendment 80 Program Vessels
[Values are rounded to nearest metric ton]
Species | Season | Area | Ratio of Amendment 80 sector vessels 1998-2004 catch to TAC | 2025 TAC (mt) | 2025 Amendment 80 vessel sideboard limit (mt)
Pollock | A Season: January 20-May 31 | Shumagin (610) | 0.003 | 5,589 | 17
|  | Chirikof (620) | 0.002 | 63,267 | 127
|  | Kodiak (630) | 0.002 | 16,751 | 34
| B Season: September 1-November 1 | Shumagin (610) | 0.003 | 31,755 | 95
|  | Chirikof (620) | 0.002 | 18,998 | 38
|  | Kodiak (630) | 0.002 | 34,854 | 70
| Annual | WYK (640) | 0.002 | 5,282 | 11
Pacific cod | A Season ¹: January 1-June 10 | W | 0.020 | 3,884 | 78
|  | C | 0.044 | 9,847 | 433
| B Season ²: September 1-December 31 | W | 0.020 | 2,213 | 44
|  | C | 0.044 | 5,532 | 243
| Annual | WYK | 0.034 | 2,194 | 75
Pacific ocean perch | Annual | W | 0.994 | 1,753 | 1742
|  | WYK | 0.961 | 2,070 | 1989
Northern rockfish | Annual | W | 1.000 | 1,396 | 1396
Dusky rockfish | Annual | W | 0.764 | 209 | 160
|  | WYK | 0.896 | 215 | 193
Note: The 2025 GOA groundfish sideboard limits for Amendment 80 Program vessels are effective from 1200 hours, A.l.t., March 18, 2025, through 2400 hours, A.l.t., December 31, 2025.
¹ The Pacific cod A season for trawl gear does not open until January 20.
² The Pacific cod B season for trawl gear closes November 1.

Table 25—Final 2026 GOA Groundfish Sideboard Limits for Amendment 80 Program Vessels
[Values are rounded to nearest metric ton]
Species | Season | Area | Ratio of Amendment 80 sector vessels 1998-2004 catch to TAC | 2026 TAC (mt) | 2026 Amendment 80 vessel sideboard limit (mt)
Pollock | A Season: January 20-May 31 | Shumagin (610) | 0.003 | 4,109 | 12
|  | Chirikof (620) | 0.002 | 46,510 | 93
|  | Kodiak (630) | 0.002 | 12,314 | 25
| B Season: September 1-November 1 | Shumagin (610) | 0.003 | 23,344 | 70
|  | Chirikof (620) | 0.002 | 13,967 | 28
|  | Kodiak (630) | 0.002 | 25,622 | 51
| Annual | WYK (640) | 0.002 | 3,883 | 8
Pacific cod | A Season ¹: January 1-June 10 | W | 0.020 | 3,648 | 73
|  | C | 0.044 | 9,251 | 407
| B Season ²: September 1-December 31 | W | 0.020 | 2,079 | 42
|  | C | 0.044 | 5,196 | 229
| Annual | WYK | 0.034 | 2,061 | 70
Pacific ocean | Annual | W | 0.994 | 1,688 | 1,678
perch |  | WYK | 0.961 | 1,993 | 1,915
Northern rockfish | Annual | W | 1.000 | 1,346 | 1,346
Dusky rockfish | Annual | W | 0.764 | 199 | 152
|  | WYK | 0.896 | 204 | 183
Note: The 2026 GOA groundfish sideboard limits for Amendment 80 Program vessels are effective from 0001 hours, A.l.t., January 1, 2026, through 1200 hours, A.l.t., March 17, 2026.
¹ The Pacific cod A season for trawl gear does not open until January 20.
² The Pacific cod B season for trawl gear closes November 1.

The halibut PSC sideboard limits for Amendment 80 Program vessels in the GOA are based on the historic use of halibut PSC by Amendment 80 Program vessels in each PSC target category from 1998 through 2004. These values are slightly lower than the average historic use to accommodate two factors: allocation of halibut PSC cooperative quota under the Rockfish Program and the exemption of the F/V “Golden Fleece” from this restriction (§ 679.92(b)(2)). Table 26 lists the final halibut PSC sideboard limits for Amendment 80 Program vessels. These tables incorporate the maximum percentages of the halibut PSC sideboard limits that may be used by Amendment 80 Program vessels as contained in table 38 to 50 CFR part 679. Any residual amount of a seasonal Amendment 80 halibut PSC sideboard limit may carry forward to the next season limit (§ 679.92(b)(2)).

Table 26—Final 2025 and 2026 Halibut PSC Sideboard Limits for Amendment 80 Program Vessels in the GOA
[Values are rounded to nearest metric ton]
Season | Season dates | Target fishery | Historic Amendment 80 use of the annual halibut PSC limit catch (ratio) | 2025 and 2026 annual halibut PSC limit (mt) | 2025 and 2026 Amendment 80 vessel halibut PSC limit
1 | January 20-April 1 | shallow-water | 0.0048 | 1,705 | 8
|  | deep-water | 0.0115 | 1,705 | 20
2 | April 1-July 1 | shallow-water | 0.0189 | 1,705 | 32
|  | deep-water | 0.1072 | 1,705 | 183
3 | July 1-August 1 | shallow-water | 0.0146 | 1,705 | 25
|  | deep-water | 0.0521 | 1,705 | 89
4 | August 1-October 1 | shallow-water | 0.0074 | 1,705 | 13
|  | deep-water | 0.0014 | 1,705 | 2
5 | October 1-December 31 | shallow-water | 0.0227 | 1,705 | 39
|  | deep-water | 0.0371 | 1,705 | 63
Total: |  |  |  |  | 474
Note: The halibut PSC sideboard limits for Amendment 80 Program vessels are effective at 1200 hours, A.l.t., March 18, 2025, through 1200 hours, A.l.t., March 17, 2026.

Directed Fishing Closures

Pursuant to § 679.20(d)(1)(i), if the Regional Administrator determines: (1) that any allocation or apportionment of a target species or species group allocated or apportioned to a fishery will be reached; or (2) with respect to pollock and Pacific cod, that an allocation or apportionment to an inshore or offshore component or sector allocation will be reached, then the Regional Administrator may establish a directed fishing allowance (DFA) for that species or species group. If the Regional Administrator establishes a DFA and that allowance is or will be reached before the end of the fishing season or year, NMFS will prohibit directed fishing for that species or species group in the specified GOA subarea, regulatory area, or district (§ 679.20(d)(1)(iii)).

The Regional Administrator has determined that the TACs for the species and species groups listed in table 27 are necessary to account for the incidental catch of these species in other anticipated groundfish fisheries for the 2025 and 2026 fishing years.

Table 27—2025 and 2026 Directed Fishing Closures in the GOA
[Amounts for incidental catch in other directed fisheries are in metric tons]
Target | Area/sector or program/gear | Incidental catch amount and year (if amounts differ by year)
Pollock ¹ | All, ICA, offshore | not applicable.¹
| Shumagin (610), A80 sideboard, trawl | 112 (2025), 82 (2026).
| Chirikof (620), A80 sideboard, trawl | 165 (2025), 121 (2026).
| Kodiak (630), A80 sideboard, trawl | 103 (2025). 76 (2026).
| West Yakutat (640), A80 sideboard, trawl | 11 (2025), 8 (2026).
Sablefish | All, trawl ² | 3,315 (2025).
|  | 3,274 (2026).
Pacific cod | Western, CV, HAL | 82 (2025), 78 (2026).
| Western, CP, trawl | 141 (2025), 133 (2026).
| Western, AFA sideboard, trawl | 55 (2025), 52 (2026).
| Central, CP, trawl ² | 626 (2025), 588 (2026).
Pacific ocean perch | Central, ICA, trawl ² | 3,500.
Northern rockfish | Central, ICA, trawl ² | 300.
Shortraker rockfish | All ² | 647.
Dusky rockfish | Central, ICA, trawl ² | 250.
Rougheye/blackspotted rockfish | All ² | 1,180 (2025).
|  | 1,203 (2026).
Thornyhead rockfish | All ² | 1,338.
Other rockfish | All | 1,384.
Atka mackerel | All | 3,000.
Big skate | All | 2,835.
Longnose skate | All | 2,536.
Other skates | All | 665.
Sharks | All | 4,891.
Octopuses | All | 964.
Note: The directed fishing closures are effective at 1200 hours, A.l.t., March 18, 2025, through 1200 hours, A.l.t., March 17, 2026.
¹ Pollock is closed to directed fishing in the GOA by the offshore component under § 679.20(a)(6)(i).
² Closures are not applicable to participants in Central GOA Rockfish Program cooperatives while such participants are checked-in to the Central GOA Rockfish Program (and therefore are fishing under the authority of a rockfish cooperative quota permit) because cooperatives are prohibited from exceeding their allocations (§ 679.7(n)(6)(viii)).

Consequently, in accordance with § 679.20(d)(1)(i), the Regional Administrator establishes the DFA for the species or species groups listed in table 27 as zero mt. Therefore, in accordance with § 679.20(d)(1)(iii), NMFS is prohibiting directed fishing for those species and species groups, areas, gear types, and components in the GOA listed in table 27 effective at 1200 hours, A.l.t., March 18, 2025, through 1200 hours, A.l.t., March 17, 2026.

Closures implemented under the 2024 and 2025 GOA harvest specifications for groundfish (89 FR 15484, March 4, 2024) remain effective under authority of these final 2025 and 2026 harvest specifications and until the date specified in those closure notifications. Closures are posted at the following website under the Alaska filter for Management Areas: https://www.fisheries.noaa.gov/rules-and-announcements/bulletins.

While these closures are in effect, the maximum retainable amounts at § 679.20(e) and (f) apply at any time during a fishing trip. These closures to directed fishing are in addition to closures and prohibitions found at 50 CFR part 679. NMFS may implement other closures during the 2025 and 2026 fishing years as necessary for effective conservation and management and consistent with the regulations at 50 CFR part 679.

Comments and Responses

NMFS received one comment letter with one unique comment during the public comment period for the proposed GOA harvest specifications (89 FR 94680, November 29, 2024). The one comment was from an individual. NMFS's response to the unique comment is addressed below. No changes were made in this rule in response to the comment.

Comment 1: Harvest limits should not be increased and should be reduced by 50 percent in the GOA.

Response: The Alaska Board of Fisheries determines the harvest limits for fisheries in State waters, defined as a Guideline Harvest Level (GHL), which for some stocks like pollock and Pacific cod is based on a proportion of the federally-set ABC. The GHL set by the BOF is outside the scope of this action. NMFS notes however that the BOF did not take action in December 2024 to increase the GHL for Pacific cod in the Prince William Sound Area. As explained earlier in this final rule, NMFS continues to set TACs for pollock and Pacific cod after accounting for the GHLs in State waters to ensure that the sum of all pollock and Pacific cod caught in State waters and Federal waters from the GOA does not exceed the ABCs.

To the extent that this comment letter is requesting that NMFS reduce the federally-set harvest limits (i.e., TACs) for fisheries in federal waters, NMFS declines to do so. In accordance with National Standard 1 (§ 600.310) and regulations the SSC recommends for each species and species group an OFL and an ABC. OFL and ABC are calculated by prescribed methods set forth in the FMP that use a series of six tiers to define OFL and ABC amounts based on the level of reliable information available. Tier 1 represents the highest level of information quality available, while Tier 6 represents the lowest. The methods for calculating OFL and ABC (including the ABC control rule) become more precautionary depending on the tier and stock status. The specification of ABC is further informed by stock-assessment-specific risk tables that are applied by evaluating four types of considerations (i.e., assessment-related, population dynamics, environmental/ecosystem, and fishery performance) that could support a scientific recommendation to reduce the ABC.

The specification of OFLs and ABCs informs the specification of TACs as TACs must be set equal to or less than ABCs, and ABCs must be set equal to or less than OFLs (§ 600.310(f)(3)-(4), (g)(4)). This ensures that the TACs for each species and species group do not exceed the scientific recommendations for ABCs and OFLs. As a result, TACs are constrained by the biological reference point recommended by the SSC (i.e., the ABCs). NMFS specifies TACs after the Council makes its recommendations.

Ultimately, the annual process for specifying TACs for groundfish in the GOA is a robust and scientifically-driven process informed by the best available information on the status of the species and the marine ecosystems off Alaska, as well as socioeconomic and harvest data. The process involves significant scientific input and includes consideration of current environmental and ecosystem factors (e.g., climate) and other marine resources (e.g., salmon and halibut). Scientists from the Alaska Fisheries Science Center prepare the assessment using sophisticated statistical analyses of fish populations and draft the written assessment for a species or species group. The assessments are informed by the most recent survey and harvest data available. The stock assessment then undergoes rigorous review by the scientists and resource managers on the Plan Team and SSC.

During this annual TAC setting process, the Plan Team, SSC, AP, and Council review several sources comprising the best scientific information available including the stock assessments, ESRs, groundfish economic status reports, and Ecosystem and Socioeconomic Profiles (ESPs) (collectively referred to as the SAFE reports); the Plan Team reports; and other information as reference in their OFL, ABC, and TAC recommendations to NMFS. NMFS reviews the same information for its annual decision to implement the OFLs, ABCs, and TACs for GOA groundfish. The use of the most recent, best available information in the SAFE reports allows the Council and NMFS to respond to changes in stock condition and environmental, ecosystem, and socioeconomic factors in the GOA and to adjust the harvest specifications as appropriate, which is consistent with National Standard 2 of the Magnuson-Stevens Act to use the best scientific information available (16 U.S.C. 1851(a)(2); 50 CFR 600.315).

NMFS has determined that the TACs are based on the best scientific information available, are consistent with the biological condition of groundfish stocks as described in the 2024 SAFE report, and none of the final TACs exceed the final ABCs consistent with National Standard 1. NMFS therefore declines to reduce TACs as requested by the commenter.

Classification

NMFS is issuing this final rule pursuant to section 305(d) of the Magnuson-Stevens Act. Through previous actions, the FMP and regulations are designed to authorize NMFS to take this action pursuant to section 305(d) (see 50 CFR part 679). The NMFS Assistant Administrator has determined that the final harvest specifications are consistent with the FMP and with the Magnuson-Stevens Act and other applicable laws.

This final rule is exempt from review under Executive Order 12866 because it only implements annual catch limits in the GOA.

Executive Order 13175

To provide for meaningful and timely consultation and engagement in the development of this final rule, NMFS invited Alaska Native tribal governments and Alaska Native corporations to participate in consultation and/or engagement with NMFS prior to the Council's December 2024 meeting. NMFS held a tribal engagement session that included NMFS staff providing briefings on the annual specifications process. NMFS staff also met informally with an inter-tribal agency to explain the annual specifications process. No formal consultations were requested or held on the GOA harvest specifications.

A Tribal summary impact statement under section (5)(b)(2)(B) and section (5)(c)(2) of E.O. 13175 was not required for this final rule because this action does not impose substantial direct compliance costs on Alaska Native Tribal Governments and this action does not preempt Tribal law.

National Environmental Policy Act

NMFS prepared a Final EIS for the Alaska groundfish harvest specifications and alternative harvest strategies (see ADDRESSES) and made it available to the public on January 12, 2007 (72 FR 1512). On February 13, 2007, NMFS issued the ROD for the Final EIS identifying the selected alternative (Alternative 2). NMFS prepared a SIR for this action to address the need to prepare a Supplemental EIS (SEIS) (40 CFR 1502.9(d)(1)). Copies of the Final EIS, ROD, and annual SIRs for this action are available from NMFS (see ADDRESSES). The Final EIS analyzes the environmental, social, and economic consequences of alternative harvest strategies on resources in the action area. Based on the analysis in the Final EIS, NMFS concluded that the preferred Alternative (Alternative 2) provides the best balance among relevant environmental, social, and economic considerations and allows for continued management of the groundfish fisheries based on the most recent, best scientific information. The preferred alternative is a harvest strategy in which TACs are set at a level within the range of ABCs recommended through the Council harvest specifications process by the Council's SSC. The sum of the TACs also must achieve the OY specified in the FMP and regulations. While the specific numbers that the harvest strategy produces may vary from year to year, the methodology used for the preferred harvest strategy remains constant.

The latest annual SIR evaluated whether NMFS should prepare a SEIS for the 2025 and 2026 groundfish harvest specifications. A SEIS should be prepared if a major federal action is incomplete or ongoing and: (1) the agency makes substantial changes to the proposed action that are relevant to environmental concerns; or (2) there are substantial new circumstances or information about the significance of adverse effects that bear on the analysis (40 CFR 1502.9(d)(1)). After reviewing the most recent, best available information, including the information contained in the SIR and SAFE report, the Regional Administrator has determined that (1) the 2025 and 2026 harvest specifications, which were set according to the preferred harvest strategy, do not constitute a substantial change in the action; and (2) the information presented does not indicate that there are substantial new circumstances or information about the significance of adverse effects that bear on the analysis in the Final EIS. Any new information and circumstances do not present a seriously different picture of the likely environmental harms of the action (i.e., the implementation of these harvest specifications) to occur beyond what was considered in the Final EIS. The 2025 and 2026 harvest specifications will result in environmental, social, and economic impacts within the scope of those analyzed and disclosed in the Final EIS. Therefore, a SEIS is not necessary to implement the 2025 and 2026 harvest specifications.

Final Regulatory Flexibility Analysis

Section 604 of the Regulatory Flexibility Act (RFA, 5 U.S.C. 601 et seq.) requires that, when an agency promulgates a final rule under 5 U.S.C. 553, after being required by that section or any other law to publish a general notice of proposed rulemaking, the agency shall prepare a final regulatory flexibility analysis (FRFA). The following constitutes the FRFA prepared for these final 2025 and 2026 harvest specifications.

Section 604 of the RFA describes the required contents of a FRFA: (1) a statement of the need for, and objectives of, the rule; (2) a statement of the significant issues raised by the public comments in response to the initial regulatory flexibility analysis (IRFA), a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are contained at the beginning of the preamble to this final rule and are not repeated here.

NMFS published the proposed rule for 2025 and 2026 harvest specifications, apportionments, and Pacific halibut PSC for groundfish fisheries of the GOA on November 29, 2024 (89 FR 94680). NMFS prepared an IRFA to accompany the proposed action and included the IRFA in the proposed rule. The comment period closed on December 30, 2024. No comments were received on the IRFA or on the economic impacts of the rule more generally. The Chief Counsel for Advocacy of the Small Business Administration did not file any comments on the proposed rule.

The entities directly regulated by this action are: (1) entities operating vessels with groundfish Federal fishing permits (FFPs) harvesting GOA FMP groundfish in Federal waters; (2) all entities operating vessels, regardless of whether they hold groundfish FFPs, harvesting GOA FMP groundfish in the State waters parallel fisheries; and (3) all entities operating vessels fishing for halibut that have incidental catch of GOA FMP groundfish (whether or not they have FFPs).

For RFA purposes only, NMFS has established a small business size standard for businesses, including their affiliates, whose primary industry is commercial fishing (see § 200.2). A business primarily engaged in commercial fishing (North American Industry Classification System code (NAICS) 11411) is classified as a small business if it is independently owned and operated, is not dominant in its field of operation (including its affiliates), and has combined annual gross receipts not in excess of $11 million for all its affiliated operations worldwide.

Using the most recent data available (2023), the estimated number of directly regulated small entities includes approximately 682 individual CV and CP entities with gross revenues meeting the small entity criteria. This includes an estimated 680 small CV entities and 3 small CP entities in the GOA groundfish sector. The determination of entity size is based on vessel revenues and affiliated group revenues. This determination also includes an assessment of fisheries cooperative affiliations, although actual vessel ownership affiliations have not been completely established. However, the estimate of these 682 CVs and CPs may be an overstatement of the number of small entities because of the complexity of analyzing the links and affiliations across these vessels, particularly since many of them conduct operations in both Federal and State fisheries. The CVs had average gross revenues that varied by gear type. Average gross revenues for hook-and-line CVs, pot gear CVs, and trawl gear CVs are estimated to be $910,000, $1,530,000, and $2,280,000, respectively. Average gross revenues for hook-and-line CPs and pot gear CPs are confidential.

This final rule contains no information collection requirements under the Paperwork Reduction Act of 1995.

This action implements the final 2025 and 2026 harvest specifications, apportionments, and halibut PSC limits for the groundfish fishery of the GOA. This action is necessary to establish harvest limits for groundfish during the 2025 and 2026 fishing years and is taken in accordance with the FMP prepared and recommended by the Council pursuant to the Magnuson-Stevens Act. The establishment of the final harvest specifications is governed by the Council and NMFS's harvest strategy for the catch of groundfish in the GOA. The harvest strategy was selected previously from among five alternatives as described in the Final EIS, with the preferred alternative harvest strategy being one in which the TACs fall within the range of ABCs recommended through the Council harvest specifications process by the SSC. Under this preferred alternative harvest strategy, TACs are recommended to NMFS by the Council, utilizing recommendations from the AP, and are within the range of ABCs recommended by the SSC. The sum of the TACs must achieve the OY specified in the FMP. While the specific TAC numbers that the harvest strategy produces may vary from year to year, the methodology used for the preferred harvest strategy remains constant. This final action implements the preferred alternative harvest strategy previously chosen by the Council and NMFS to set TACs that fall within the range of ABCs recommended through the Council harvest specifications process and as recommended by the Council, after considerations from the Council's AP. This TAC determination method is consistent with previous years.

The final 2025 and 2026 TACs associated with preferred harvest strategy are those recommended by the Council in December 2024. OFLs and ABCs for the species were based on recommendations prepared by the Plan Team and were reviewed and recommended by the SSC. The Council based its TAC recommendations on those of its AP, and those recommendations are consistent with the SSC's OFL and ABC recommendations. The sum of all TACs remains within the OY for the GOA consistent with § 679.20(a)(1)(i)(B).

The final 2025 and 2026 OFLs and ABCs are based on the best available biological information, including projected biomass trends, information on assumed distribution of stock biomass, and revised technical methods to calculate stock biomass. The final 2025 and 2026 TACs are based on the best available biological and socioeconomic information. The final 2025 and 2026 OFLs, ABCs, and TACs are consistent with the biological condition of groundfish stocks as described in the 2024 SAFE report, which is the most recent, completed SAFE report, as well as the ecosystem and socioeconomic information presented in the 2024 SAFE report (including the GOA ESR). Accounting for the most recent information to set the final OFLs, ABCs, and TACs is consistent with the objectives for this action, as well as National Standard 2 of the Magnuson-Stevens Act (16 U.S.C. 1851(a)(2); 50 CFR 600.315) that actions shall be based on the best scientific information available. The SAFE report also includes information on the economic condition of the groundfish fisheries off Alaska through the Economic Status Report. Data are available through 2023.

Under this action, the final ABCs reflect harvest amounts that are less than the specified OFLs. The final TACs are within the range of final ABCs recommended by the SSC and do not exceed the biological limits recommended by the SSC (the ABCs and OFLs). Specifying TACs that do not exceed ABCs and ABCs that do not exceed OFLs is consistent with the objectives for this action, the FMP, and National Standard 1 of the Magnuson-Stevens Act (16 U.S.C. 1851(a)(1)) and implementing regulations (§ 600.310). For most species and species groups in the GOA, the Council recommended, and NMFS sets, final TACs equal to final ABCs, which is intended to maximize harvest opportunities in the GOA, unless other conservation or management reasons support setting TAC amounts less than the ABCs.

For the following species and species groups, the Council recommended, and NMFS sets, TACs that are less than the ABCs for pollock, Pacific cod, shallow-water flatfish in the Western GOA, arrowtooth flounder in the Western GOA, flathead sole in the Western GOA, other rockfish in the SEO District, Atka mackerel, and octopus. These specific reductions were reviewed and recommended by the Council's AP, and the Council in turn adopted the AP's recommendations for the final 2025 and 2026 TACs.

Increasing TACs for some species may not result in increased harvest opportunities for those species. This is due to a variety of reasons. There may be a lack of commercial or market interest in some species. Additionally, there are fixed, and therefore constraining, PSC limits associated with the harvest of the GOA groundfish species that can lead to an underharvest of flatfish TACs. For this reason, the shallow-water flatfish, arrowtooth flounder, and flathead sole TACs in the Western GOA are set to allow for harvest opportunities for these target species while conserving the halibut PSC limit for use in other fisheries, including other groundfish fisheries or the halibut IFQ directed fishery. The other rockfish TAC in the SEO District is set to support incidental catch in other fisheries, and the Atka mackerel TAC is also set to accommodate incidental catch in other fisheries. Finally, the TACs for three species (i.e., pollock, Pacific cod, and octopus) cannot be set equal to ABC, as the TAC must be reduced to account for the State's GHLs or maximum of the GHR in these fisheries. The combined W/C/WYK pollock TAC, the GOA Pacific cod TACs, and the GOA-wide octopus TAC are therefore set to account for the State's GHLs for the State waters pollock and Pacific cod fisheries and the State's maximum GHR for the State waters octopus fishery so that the ABCs are not exceeded.

Based upon the best available scientific data, and in consideration of NMFS's objectives of this action, there are no significant alternatives to the final rule that have the potential to accomplish the stated objectives of the Magnuson-Stevens Act and any other applicable statutes and that have the potential to minimize any significant adverse economic impact of the final rule on small entities. This action is economically beneficial to entities operating in the GOA, including small entities. The action specifies TACs for commercially valuable species in the GOA and allows for the continued prosecution of the fishery, thereby creating the opportunity for fishery revenue. After public process, during which the Council and NMFS solicited input from stakeholders, the Council concluded and NMFS likewise determines that these final harvest specifications would best accomplish the stated objectives articulated in the preamble for this final rule and in applicable statutes and would minimize to the extent practicable adverse economic impacts on the universe of directly regulated small entities.

Administrative Procedure Act

Pursuant to 5 U.S.C. 553(d)(3), the Assistant Administrator for Fisheries, NOAA, finds good cause to waive the 30-day delay in the date of effectiveness for this rule because delaying this rule is contrary to the public interest. The Plan Team review of the 2024 SAFE report occurred in November 2024, and based on the 2024 SAFE report, the Council considered and recommended the final harvest specifications in December 2024. Accordingly, NMFS's review of the final 2025 and 2026 harvest specifications could not begin until after the December 2024 Council meeting and after the public had time to comment on the proposed action.

For all fisheries not currently closed because the TACs established under the final 2024 and 2025 harvest specifications (89 FR 15484, March 4, 2024) have not yet been reached, it is possible that they would be closed prior to the expiration of a 30-day delayed effectiveness period, because those fisheries have nearly reached those previously set TACs. Some affected fisheries therefore could close soon, as they are already close to reaching their TACs, and such closures would cause unnecessary economic harm to the fisheries in the cases where this final rule increases the groundfish TACs. If implemented immediately, this final rule would allow these fisheries to continue fishing, because some of the new TACs implemented by this rule are higher than the TACs under which they are currently fishing.

Because this rule would allow fisheries with a lower TAC under the final 2024 and 2025 harvest specifications (89 FR 15484, March 4, 2024) to harvest up to the higher TAC published in these final 2025 and 2026 harvest specifications, it relieves a restriction for those fisheries. As result, this rule not subject to the 30-day delayed effectiveness provision of the APA pursuant to 5 U.S.C. 553(d)(1). For those fisheries not currently closed because the TACs established under the final 2024 and 2025 harvest specifications have not yet been reached, it is possible that their TACs could be reached within that 30-day period and NMFS would have to close those fisheries prior to the expiration of a 30-day delayed effectiveness period. If those fisheries closed, they would experience a restriction in fishing. If this rule is implemented immediately, this rule would relieve the potential for those fisheries to be restricted and would allow these fisheries to continue fishing because some of the new TACs implemented by this rule are higher than the TACs under which they are currently fishing.

In addition, immediate effectiveness of this action is required to provide consistent management and conservation of fishery resources based on the best available scientific information. This is particularly pertinent for those species that have lower 2025 ABCs and TACs than those established in the final 2024 and 2025 harvest specifications (89 FR 15484, March 4, 2024). If implemented immediately, this rule would ensure that NMFS can properly manage those fisheries for which this rule sets lower 2025 ABCs and TACs, which are based on the most recent biological information on the condition of stocks. The changes between the proposed 2025 ABCs and TACs are discussed earlier in the Changes from the Proposed 2025 and 2026 Harvest Specifications in the GOA section of this rule.

Certain fisheries, such as those for pollock, are intensive, fast-paced fisheries. Other fisheries, such as those for sablefish, flatfish, rockfish, Atka mackerel, skates, sharks, and octopuses, are critical either as directed fisheries or as incidental catch in other fisheries. Thus, for those species that have higher 2025 TACs than under the final 2024 and 2025 harvest specifications (89 FR 15484, March 4, 2024) than the TACs established by this final rule, there is some risk of exceeding these TAC limits. U.S. fishing vessels have demonstrated the capacity to catch the TAC allocations in many of these fisheries. If the date of effectiveness of this rule were to be delayed 30 days and a TAC was reached during those 30 days, NMFS would be required to close directed fishing or prohibit retention for the applicable species. Such closures and unnecessary discards would cause confusion to the industry and potential economic harm to fishermen, undermining the intent of this rule. Waiving the 30-day delay in the date of effectiveness allows NMFS to prevent this potential economic harm that could occur, should the previously set 2025 TACs (as set under the final 2024 and 2025 harvest specifications) be reached during such a delay. In addition, determining which fisheries may close in advance is nearly impossible because these fisheries are affected by several factors, including fishing effort, weather, movement of fishery stocks, and market price, which cannot be predicted. Furthermore, the closure of one fishery has a cascading effect on other fisheries; the closure would free up fishing vessels, allowing them to move from closed fisheries to open fisheries, thereby increasing the fishing capacity in those open fisheries, and potentially causing them to close sooner.

In fisheries subject to declining sideboard limits, a failure to implement the updated sideboard limits before the initial season's end could deny the intended economic protection to the sectors that do not have sideboards. Conversely, in fisheries with increasing sideboard limits, economic benefit could be denied to the sideboard-limited sectors.

If the final harvest specifications are not effective by March 20, 2025, which is the start of the 2025 Pacific halibut season as specified by the IPHC, the fixed gear sablefish fishery will not begin concurrently with the Pacific halibut IFQ season. This would result in confusion for the industry and economic harm from unnecessary discard of sablefish that are caught along with Pacific halibut, as both fixed gear sablefish and Pacific halibut are managed under the same IFQ program. Immediate effectiveness of these final 2025 and 2026 harvest specifications will allow the sablefish IFQ fishery to begin concurrently with the Pacific halibut IFQ season.

Finally, immediate effectiveness also provides the fishing industry with the earliest possible opportunity to plan and conduct its fishing operations with respect to new information about TACs. Therefore, in accordance with 5 U.S.C. 553(d)(3), NMFS finds good cause to waive the 30-day delay in the date of effectiveness for this rule.

A formal section 7 consultation under the Endangered Species Act was initiated for the GOA groundfish fisheries. In a biological opinion and conference opinion dated December 23, 2024, the Regional Administrator determined that the GOA groundfish fisheries are not likely to jeopardize the continued existence of any endangered or threatened species or species proposed for listing.

Small Entity Compliance Guide

Section 212 of the Small Business Regulatory Enforcement Fairness Act of 1996 states that, for each rule or group of related rules for which an agency is required to prepare a FRFA, the agency shall publish one or more guides to assist small entities in complying with the rule and shall designate such publications as “small entity compliance guides.” The agency shall explain the actions a small entity is required to take to comply with a rule or group of rules.

The tables contained in this final rule are provided online and serve as the plain language guide to assist small entities in complying with this final rule as required by the Small Business Regulatory Enforcement Fairness Act of 1996. This final rule's primary purpose is to announce the final 2025 and 2026 harvest specifications and prohibited species bycatch allowances for the groundfish fisheries of the GOA. This action is necessary to establish harvest limits and associated management measures for groundfish during the 2025 and 2026 fishing years and to accomplish the goals and objectives of the FMP. It is taken in accordance with the FMP, the Magnuson-Stevens Act, and regulations at 50 CFR parts 600, 679, and 680. This action affects all fishermen who participate in the GOA fisheries. The specific OFL, ABC, TAC, and PSC amounts are provided in tables in this final rule to assist the reader. Affected fishery participants are advised to review this final rule, including its tables, which also contains plain language summaries of the underlying relevant regulations supporting the harvest specifications and the harvest of groundfish in the GOA that the reader may find helpful.

Information to assist small entities in complying with this final rule is provided online. The OFL, ABC, TAC, and PSC tables are individually available online at: https://www.fisheries.noaa.gov/alaska/sustainable-fisheries/alaska-groundfish-harvest-specifications. Explanatory information on the relevant regulations supporting the harvest specifications is also found in footnotes to the tables. Harvest specification changes are also available from the same online source, which includes applicable Federal Register notices, information bulletins, and other supporting materials. NMFS will announce closures of directed fishing in the Federal Register and information bulletins released by the Alaska Region. Affected fishery participants should keep themselves informed of such closures. Copies of the tables and/or this final rule are also available upon request.

Authority: 16 U.S.C. 773 et seq.; 16 U.S.C. 1540 (f), 16 U.S.C. 1801 et seq.; 16 U.S.C. 3631 et seq.; Pub. L. 105-277; Pub. L. 106-31; Pub. L. 106-554; Pub. L. 108-199; Pub. L. 108-447; Pub. L. 109-241; Pub. L. 109-479.

Dated: March 12, 2025.
Samuel D. Rauch III,
Deputy Assistant Administrator for Regulatory Programs, National Marine Fisheries Service.

[FR Doc. 2025-04371 Filed 3-17-25; 8:45 am]

BILLING CODE 3510-22-P